POSTAL REGULATORY COMMISSION

39 CFR Part 3055

[Docket No. RM2009-11; Order No. 292]

Postal Service Performance and Customer Satisfaction Reporting

AGENCY: Postal Regulatory Commission.

ACTION: Proposed rule.

SUMMARY: The Commission is proposing rules to address Postal Service reporting on service performance measurement and customer satisfaction. This proposal implements new statutory provisions. Comments will assist the Commission in developing final rules.

DATES: Initial comments due October 26, 2009. Reply comments due November 24, 2009.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION:

Regulatory History

72 FR 72395 (December 20, 2007).

73 FR 39996 (July 11, 2008).

73 FR 73664 (December 2, 2008).

73 FR 39996 (July 11, 2008).

I. Introduction

II. Background

III. Statutory Provisions

IV. Service Performance Measurements Reporting

V. Special Services Measurement Systems

VI. Reporting of Customer Satisfaction

VII. Supporting Information

VIII. Designation of Public Representative

IX. Solicitation of Comments

X. Ordering Paragraphs

I. Introduction

This rulemaking is part of the series of rulemakings initiated by the Postal Regulatory Commission (Commission) to fulfill its responsibilities under the Postal Accountability and Enhancement Act (PAEA), Public Law 109-435, 120 Stat. 3218 (2006). The proposed rules described herein seek to establish reporting requirements for the measurements of level of service and degree of customer satisfaction afforded by the Postal Service in connection with each market dominant product. The reporting of level of service and customer satisfaction are required by 39 U.S.C. 3652(a)(2)(B) as part of the Postal Service's annual report to the Commission. This is a necessary part of the Commission's implementation of a modern system of rate regulation for market dominant products that ensures service is not impaired as a result of the greater flexibility provided to the Postal Service under the PAEA and the rate cap requirements, and it supports an important part of the Commission's reporting responsibilities. See 39 U.S.C. 3622 and 3651.

The Commission recognizes that these proposed rules are being published at a time when the Postal service is experiencing unprecedented fiscal challenges. The proposed rules are designed to maximize transparency using data sources that either exist now, or are in active development. The proposed reporting requirements are written with a long-term goal in mind, i.e., to allow the Commission to perform its regulatory functions under the PAEA and to meet the statutory reporting requirements cited above, and are not necessarily based on the capabilities of existing measurement systems. The Commission recognizes the transitional needs of the Postal Service and accepts its request to develop and utilize internal measurement systems relying on barcode technology. Total compliance with the reporting requirements will not be possible until the Intelligent Mail barcode (IMb)-, Red Tag/DelTrak-, and Delivery Confirmation-based measurement systems provide reliable, representative data. In some instances, new or enhanced measurement capabilities may be required.

In the short term, the Commission accepts that the Postal Service cannot wholly comply with these reporting requirements because specific measurement systems have not been fully developed or deployed. As long as the indicators already in place demonstrate adequate service levels, the Commission will allow the Postal Service to proceed diligently to develop a plan for eventually being able to supply the required information, and periodically to demonstrate progress in implementing its plan. If a new requirement in these proposed rules is viewed by the Postal Service as particularly onerous, or involves costly new data collection that does not appear to add needed transparency, the Postal Service is requested to identify it and attempt to quantify its incremental cost.

To assist commenters to visualize the scope and extent of information required, illustrative data reporting charts are included as section VII—Supporting Information.

II. Background

The first part of this rulemaking addresses reporting of the level of service (or the service performance measurements) associated with each market dominant product. Development of the reporting requirements is the final step in a four-step process for incorporating measurements of level of service into the modern system of rate regulation for market dominant products. The previous steps established service standards, identified service performance measurement systems, and established performance goals.

The establishment of service standards is a direct result of the requirements of 39 U.S.C. 3691, which require the Postal Service, in consultation with the Postal Regulatory Commission, to establish by regulation a set of modern service standards for market dominant products. Initial consultations between the Commission and the Postal Service concluded on November 16, 2007, with the Commission providing the Postal Service with comments addressing the Postal Service's service standards proposals.¹ The Postal Service completed this task by publishing as a final rule Modern Service Standards for Market-Dominant Products, December 19, 2007 (Service Standards).²

¹ Comments of the Postal Regulatory Commission on Modern Service Standards for Market Dominant Products, November 16, 2007. The consultations are described as “initial” because of the ongoing nature of consultations that are necessary to transition from a set of standards to an operational measurement system encompassing performance goals (see uncodified § 302(b)(1) of the PAEA) and reporting mechanisms (see U.S.C. 3652).

² 72 FR 72216 (December 19, 2007) (to be codified at 39 CFR parts 121 and 122).

In June 2008, the Postal Service identified service performance measurement systems by providing the Commission with a draft of its Service Performance Measurement plan (Plan).³ The Plan presents the various measurement systems the Postal Service proposes to use to measure the standards presented in the Service Standards document identified above.⁴ The Postal Service submitted the Plan for the Commission's “review, feedback, and concurrence.” ⁵ In response, the Commission initiated Docket No. PI2008-1 to consider the Postal Service's Plan and to solicit public comment. This process culminated with the Commission issuing PRC Order No. 140, Order Concerning Proposals for Internal Service Standards Measurement Systems, November 25, 2008 (Order No. 140). This order completed the second step in the process by approving the approaches that the Postal Service proposes to take in developing internal measurement systems for various classes of mail.⁶

³ The Commission published the Plan in Docket No. PI2008-1, Second Notice of Request for Comments on Service Performance Measurement Systems for Market Dominant Products, June 18, 2008 (Order No. 83). The draft published in Order No. 83 was the last draft in a series of drafts provided by the Postal Service to the Commission.

⁴ An objective in designing service performance standards is for the Postal Service to provide “a system of objective external performance measurements for each market-dominant product as a basis for measurement of Postal Service performance.” 39 U.S.C. 3691(b)(1)(D). However, “with the approval of the Postal Regulatory Commission an internal measurement system may be implemented instead of an external measurement system” for individual products. 39 U.S.C. 3691(b)(2). In the Plan, the Postal Service proposes various internal, external, and hybrid (containing both internal and external elements) measurement systems to measure the performance of its mail products.

⁵ Letter from Thomas G. Day, Senior Vice President, United States Postal Service, to Dan G. Blair, Chairman, Postal Regulatory Commission, June 3, 2008.

⁶ Approval was provided with the exception of the measurement systems for several Special Services where the Commission directed the Postal Service to propose a remedial plan by June 1, 2009. The Postal Service submitted remedial proposals on May 15, 2009. See Letter from Thomas G. Day, Senior Vice President, Intelligent Mail and Address Quality, United States Postal Service, to Dan G. Blair, Chairman, Postal Regulatory Commission, May 15, 2009 (May 15, 2009 Letter from Thomas G. Day).

The PAEA directed the Postal Service, in consultation with the Commission, to develop and submit to Congress a plan for meeting service standards. Congress directed, inter alia, that the plan establish performance goals. The Postal Service posted its FY 2009 targets on its Rapid Information Bulletin Board System (RIBBS) Web page at http://ribbs.usps.gov/targets/documents/tech_guides/Targets.pdf.

The Postal Service's Plan included proposals for both annual and quarterly reporting of service performance measurements. The Commission solicited comments on service performance reporting when it considered the Postal Service's proposals for measurement systems. However, in Order No. 140, the Commission limited its considerations of those comments in anticipation of the instant rulemaking, which specifically addresses reporting requirements.

The fourth and final step in the process, and the subject of this rulemaking, is for the Commission to issue rules specifying the reporting of service performance. The Commission incorporates many of the elements proposed by the Postal Service in its Plan and the ideas presented in the comments on reporting measurements into the rules now proposed. Interested persons are encouraged to take a fresh look at the proposals presented by the Commission in this rulemaking and provide comments. Interested persons are asked to reiterate and amplify their comments where specific areas identified in previous comments are not sufficiently addressed to assure that all relevant issues are adequately considered.⁷

⁷ In Order No. 140 at 36-46, the Commission briefly reviewed the Postal Service's reporting proposals and the associated comments. The Commission indicated issues that would be appropriate for consideration in this rulemaking, and issues that appear beyond the scope of what the Commission would find necessary for its needs in reporting service performance measurements. Commenters are asked to review and consider this material prior to submitting comments in this docket.

The second part of this rulemaking concerns the reporting of customer satisfaction. This part introduces new material that previously has not been addressed by the Postal Service or the Commission. Interested persons also are asked to comment on this material.

In Order No. 140, the Commission identified areas within the Special Services measurement systems that required improvement. The Postal Service has submitted proposals for modifications to these measurement systems which are discussed separately in section V.—Special Services Measurement Systems of this Rulemaking.

III. Statutory Provisions

Section 3652(a)(2) of title 39 requires that the Postal Service include in an annual report to the Commission an analysis of the quality of service “for each market-dominant product provided in such year” by providing “(B) measures of the quality of service afforded by the Postal Service in connection with such product, including—(i) the level of service (described in terms of speed of delivery and reliability) provided; and (ii) the degree of customer satisfaction with the service provided.” In complying with this requirement, the Commission has authority to “by regulation, prescribe the content and form of the public reports (and any nonpublic annex and supporting matter relating to the report) to be provided by the Postal Service * * *.” 39 U.S.C. 3652(e)(1).⁸ The Commission also is to have access to “supporting matter” in connection with any information submitted under this section. 39 U.S.C. 3652(d).

⁸ The Commission's authority is continuing as it has further authority to initiate proceedings to improve the quality, accuracy and completeness of data whenever it shall appear that “the quality of service data has become significantly inaccurate or can be significantly improved.” 39 U.S.C. 3652(e)(2)(B).

Section 3622 of title 39 provides that the Commission by regulation establish “a modern system for regulating rates and classes for market-dominant products.” The quality of service, and its reporting, forms an integral part of many of the objectives and factors set forth in this section. Reporting on quality of service allows assessment of whether the Postal Service is meeting the objective of maintaining the “high quality service standards established under section 3691.” 39 U.S.C. 3622(b)(3). It furthers the objective of increasing “the transparency of the ratemaking process.” 39 U.S.C. 3622(b)(6). It allows assessment of the factors addressing value of service, and by association with the proposed measurement systems, the value of intelligent mail. 39 U.S.C. 3622(c)(1), (8), and (13). Finally, it is important in relation to the rate cap requirements of 39 U.S.C. 3622(d)(1)(A) when analyzing whether quality of service is impacted in order to comply with rate cap requirements.

Section 3651(b)(1)(A) of title 39 requires that the Commission report to the President and Congress on an annual basis estimates of the costs incurred by the Postal Service in providing “universal service.” Describing the quality of service afforded a product, both anticipated and actual, is a necessary element in analyzing what service is being provided at a given cost. The Postal Service is to provide the Commission with such information that may, in the judgment of the Commission, be necessary in completing this report. 39 U.S.C. 3651(c).

IV. Service Performance Measurements Reporting

A. Overview

The Postal Service proposes in its Plan and the Commission adopts for this rulemaking a two level system for reporting service performance consisting of an Annual Report provided at a high level of aggregation and four Quarterly Reports which provide information at a more detailed level. As stated in the Postal Service's Plan at 12:

In accordance with § 3652 of the Postal Accountability and Enhancement Act, the Postal Service is required to report measures of the quality of service on an annual basis. The Postal Service's proposal for service measurement goes far beyond annual reporting and will instead provide quarterly reporting for all market-dominant products, almost entirely at a district level.

Section 3652(a)(2) of title 39 requires, among other things, an annual analysis of the quality of service “for each market-dominant product * * *.” The Postal Service acknowledges this requirement and specifically states that it will go beyond what it perceives as the minimum requirement and provide quarterly reporting for all market dominant products. See Plan at 12. However, the specific data items identified in the Postal Service's Plan propose reporting at a higher level of aggregation, at the class level. This deviation from what appears to be required was challenged by many commenters in Docket No. PI2008-1.⁹ This rulemaking proposes reporting requirements by product as urged in these comments, which also is consistent with the Commission's interpretation of the statutory requirements of § 3652(a)(2). To facilitate review of the proposed rules, the most recent market dominant product list appears in Table VII-1—Market Dominant Product List as of August 10, 2009 to this rulemaking.

⁹ See comments of Pitney Bowes, Discover Financial Services, Post/Com/DMA, McGraw-Hill, and Valpak summarized in Order No. 140 at 39-40.

The proposed rules intend to require reporting for all market dominant products, but also include exceptions for when reporting is not practicable. For example, in the area of negotiated service agreements, the rules allow the Postal Service to utilize exceptions to reporting on individual negotiated service agreements if the Postal Service can demonstrate that substantially all components of a specific agreement are already included in the measurement of other products.¹⁰

¹⁰ Nonpostal products are another category of products that may require special consideration. At this time, nonpostal products are not specifically addressed by this rulemaking other than reserving space for future use.

As discussed in Order No. 140, several mailers request some form of shape-based reporting.¹¹ The Postal Service opposed these suggestions contending that this is not required for the Commission to carry out its PAEA regulatory responsibilities. Although the Commission is not opposed to consideration of shape-based reporting if the need can be demonstrated at some future date, the rules proposed in this rulemaking do not reflect shape-based reporting, per se. However, by adhering to the statutory requirement to report by product, as discussed above, it should be noted that significant, although imperfect, shape-based reporting will be accomplished.

¹¹ See comments of BAC, DFS, MOAA, NPPC, PSA, PostCom/DMA, Time Warner, Publishers Clearing House, and Valpak and the response of the Postal Service summarized in Order No. 140 at 40-41.

The Postal Service proposes in its Plan to report two types of measurements for First-Class Mail, Standard Mail, Periodicals and Package Services: (1) On-time service performance, and (2) service variance. On-time service performance represents the percentage of mailpieces delivered within the applicable service standard for those mailpieces. Service variance represents the cumulative percentage of mailpieces delivered within the applicable service standard plus 1 day, 2 days, or 3 days.¹² The Postal Service proposes to report on-time service performance both on an annual and a quarterly basis, and service variance only on a quarterly basis. The proposed rules adopt these reporting elements.

¹² In Docket No. PI2008-1, several mailers expressed an interest in expanding service variance or “tail-of-the-mail” reporting. See Order No. 140 at 43-44. However, the Commission is not convinced that additional reporting was justified.

For Special Services, the Postal Service proposes an index to report as a single number the performance of all Special Services products, provided on an annual basis. It proposes providing additional performance detail on a quarterly basis. This rulemaking specifies reporting at the product level (or, in limited circumstances, down to a component of a product for products requiring increased visibility) as required by 39 U.S.C. 3652(a)(2).¹³ The rules propose reporting the percentage of time that each product (or, in limited circumstances, a component of a product) meets or exceeds its applicable service standard.

¹³ The Commission is open to consideration of the use of an “index” at or below the product level if its use can be justified.

The Postal Service proposes in its Plan reporting service performance on an annual basis at the National level.¹⁴ On a quarterly basis, reporting for domestic First-Class Mail, Standard Mail, domestic Package Services, and Post Office Box Service within Special Services is proposed at the Postal Administrative Area and District levels, and reporting for international First-Class Mail, Periodicals, and international Package Services is proposed at the Postal Administrative Area level. This rulemaking generally adopts these reporting levels.¹⁵

¹⁴ It is unclear in the Plan, but assumed by the Commission, that the Postal Service contemplated providing National level information on a quarterly basis.

¹⁵ The Postal Service proposed additional Administrative Area and District level reporting for certain electronic Special Services that will not be adopted at this time. The Commission recognizes that this level of reporting may be required in the future, but finds it prudent to await further development of the Special Services measurement systems.

Within the Standard Mail class only, the Postal Service proposes in its Plan separate quarterly reporting for Destination Entry and for End-to-End mail. The Commission notes that the Postal Service also specifies different service standards for End-to-End and for Destination Entry mail within the Periodicals and Package Services classes. See Service Standards. Because the Postal Service and the Commission recognize service performance differences between Destination Entry and End-to-End mail in all of the aforementioned classes, the Commission carries this distinction forward in the proposed reporting requirements. This rulemaking incorporates this distinction not only for Standard Mail, but also for the Outside County Periodicals, Bound Printed Matter Flats, Bound Printed Matter Parcels, and Media Mail/Library Mail products.

Depending upon the class of mail and whether the mail is Destination Entry or End-to-End mail, and based on consideration of the entry facility and the origination/destination ZIP Code pairs, among other factors, the Postal Service specifies a vast array of service standards. See Table IV-1.

Table IV-1—Service Standards
Mail class | Service standard ranges (days): End-to-end | Service standard ranges (days): Destination entry
First-Class Mail | 1-5 | N/A
Periodicals | 1-20 | 1-8
Standard Mail | 3-22 | 2-10
Package Services | 2-20 | 1-8

For domestic First-Class Mail, the Postal Service proposes in its Plan to separately report overnight, 2-day, and a single aggregation of 3, 4, and 5-day mail. This rulemaking adopts the First-Class Mail overnight, 2-day, and 3/4/5-day reporting groups proposed by the Postal Service.

In Docket No. PI2008-1, the Commission received comments which suggest further disaggregation of the 3/4/5-day report group proposed by the Postal Service.¹⁶ The proposal suggests two smaller groups, mail subject to the 3-day service standard and mail subject to the 4 through 5-day service standards. The intent appears to be to segregate mail that either only leaves, only enters, or that never transverses the contiguous United States. The 4/5-day service standard group theoretically then could be used as representing service performance for noncontiguous United States mail. This conceivably could provide increased visibility into the service performance of mail traveling, for example, between Alaska or Hawaii and the contiguous United States.

¹⁶ See Comments of PostCom/DMA summarized in Order No. 140 at 41.

The Commission studied this suggestion, but decided against its adoption. The Commission notes that the 3-day service standard for First-Class Mail also is applicable to certain mail that is sent between the contiguous United States and certain ZIP Codes in Alaska, Hawaii, or Puerto Rico, i.e., noncontiguous United States mail. Thus, disaggregating mail subject to the 4/5-day service standards from mail subject to the 3/4/5-day service standard group does not create a 4/5-day group that is representative of noncontiguous United States mail.

As displayed in Table IV-1, the domestic products within the Periodicals, Standard Mail, and Package Services classes are subject to a wide range of applicable service standard days. The Postal Service proposes in its Plan to aggregate all service standard days and report one measurement for the domestic products within each of these classes.¹⁷

¹⁷ The Postal Service's proposal to separately report Destination Entry and End-to-End Standard Mail is recognized above.

The multitude of applicable service standards within the above classes raise issues concerning the appropriate level of aggregation/disaggregation of service standard days. Mail that is subject to shorter duration service standards is subject to different mail handling in terms of facilities encountered and transportation received than mail subject to longer duration service standards. Too high a level of aggregation results in lost visibility into service performance disparities between mail subject to different handling and service standards. Reporting by individual service standard day could be a solution, which would vastly improve visibility based on these differences. However, it also would raise measurement reliability issues due to the sparse volume of mail subject to certain longer service standards. Producing reliable measurements, providing sufficient visibility into service performance due to differences in handling and service standards, and the feasibility of implementing measurement systems at this time, all must be balanced when proposing reporting rules.

For annual reporting, this rulemaking adopts the Periodicals, Standard Mail, and Package Services reporting levels proposed by the Postal Service. The Commission balances this overview level of reporting by proposing expanded reporting requirements in certain areas to provide improved visibility within the quarterly reports. For quarterly reporting, this rulemaking adopts the Postal Service's proposed service standard aggregations for Periodicals, and the Bound Printed Matter Flats, Bound Printer Matter Parcels, and Media Mail/Library Mail products within Package Services. It proposes improvements in reporting visibility for all products within Standard Mail and the Single-Piece Parcel Post product within Package Services. For these products, the rules propose aggregating the multiple service standards for each product into two separate groups based on the mail facilities encountered and the transportation received. Specific proposals for aggregating service standard days appear within the discussion of the individual rules below.

B. Annual Reporting

1. General Considerations

This rulemaking proposes to incorporate the rules for annual reporting of service performance measurements (or achievements) into new subpart A—Annual Reporting of Service Performance Achievements of part 3055—Service Performance and Customer Satisfaction Reporting of the Commission's rules of practice and procedure. The rules proposed for incorporation into subpart A appear after the signature of this order. Table VII-2—Illustrative Annual Report Data Reporting Charts in section VII provides a visualization of the annual data reporting elements proposed by the rules through illustrative examples of data reporting charts. A rule-by-rule description of subpart A follows.

Section 3055.1 specifies the general requirement for the Postal Service to file a report on service performance measurements as part of its annual compliance report. See 39 U.S.C. 3652(a)(2)(B)(i).

Section 3055.2 describes the contents of the annual report of service performance achievements. Paragraph (b) of this section directs the reader to specific reporting requirements applicable to each product within a specific class or group. Paragraphs (c) through (g) of this section direct the Postal Service to describe the service standards, performance goals, measurement systems, and statistical methodologies for each product. In the first report produced, the Postal Service will create a baseline description of service performance measurement. The Commission recognizes that the initial report will require significant effort on the part of the Postal Service. However, subsequent annual reports will require the Postal Service only to replicate the previous report incorporating changes from year to year. Paragraph (h) of this section requires the identification of each product, or component of a product, granted an exception from reporting pursuant to § 3055.3, along with a certification that the rationale for originally granting the exception remains valid.

Particular attention should be focused on paragraphs (i) and (j) of § 3055.2. A significant amount of data will be produced pursuant to the annual and quarterly reporting rules. The data will be provided at various levels and forms of aggregation, and provided over different periods of time. Paragraphs (i) and (j) of this section in effect require the Postal Service to demonstrate how it performs each aggregation/disaggregation of data, both between and among the various reports, and over the various timeframes. The goal is to provide independent parties the information necessary to be able to replicate the aggregations/disaggregations made by the Postal Service between and among the various reports, and over the various timeframes. For example, this should include the ability to aggregate the data provided in the quarterly reports up to the level of data provided in the annual reports. It also should include the ability to aggregate data provided at the District level, to the Postal Administrative Area level, and to the National level. The Commission expects that data will be provided in electronic format (Excel files are anticipated at this time), with electronic links and formulas that can be followed in order to duplicate the Postal Service's aggregation methodologies. This would include providing volumes and other weighting factors as necessary to perform the required calculations.¹⁸

¹⁸ See comments of AMEE and MMA suggesting the inclusion of volume data, summarized in Order No. 140 at 42.

For some products, the measurement of service performance may be cost prohibitive, or a measurement of service would not be meaningful because of the nature of the product. In other instances, the product might be in the form of a negotiated service agreement, which, in fact, is merely a grouping of other products already being measured. Section 3055.3 provides an avenue for the Postal Service to seek an exception from the general requirement to report on the service performance in these instances.

Section 3691(b)(1)(D) of title 39 has as an objective for the Postal Service “[t]o provide a system of objective external performance measurements for each market-dominant product * * *.” However, “with the approval of the Postal Regulatory Commission an internal measurement system may be implemented * * *.” 39 U.S.C. 3691(b)(2). Order No. 140 approved the approach that the Postal Service is undertaking to implement most of its measurement systems. This approval is subject to continuous review as the Postal Service's systems are developed and implemented to assure that robust measurement systems are eventually put into place. Section 3055.4 of the proposed rules implements the above title 39 requirements. It requires that the Postal Service obtain Commission approval prior to using internal (including hybrid) measurement systems to obtain data for the purpose of reporting service performance measurements. This requirement is applicable to both the annual and quarterly service performance measurement reports.

Section 3055.5 requires the Postal Service to apprise the Commission of all changes to measurement systems, service standards, service goals, and reporting methodologies. The Commission may institute a proceeding to consider change proposals if it appears that the changes might have a material impact on the accuracy, reliability, or utility of the reported measurement, or if the changes might have a material impact on the characteristics of the underlying product.

Section 3055.6 requires the Postal Service to include within its proposals for new or modified market dominant products, proposals for service performance measurement systems, service standards, service goals, data reporting elements, and data reporting methodologies.

Section 3055.7 directs the Postal Service to conduct a special study, every 2 years, to evaluate final delivery service performance in certain locations. The measurement systems that the Postal Service proposes do not appear to capture information on delivery performance; for example, from the processing facility in Anchorage, Alaska to the outer reaches of Alaska; from Honolulu to the neighbor islands of Hawaii; or from San Juan to more distant locations in the Caribbean district. A special study appears appropriate for providing visibility into these areas.

2. First-Class Mail

Section 3055.20 specifies the annual reporting requirements for all products within the First-Class Mail class. For the Single-Piece Letters/Postcards, Bulk Letters/Postcards, Flats, and Parcels products, reporting of on-time service performance is to be disaggregated by mail subject to the overnight, 2-day, and 3/4/5-day service standards as a percentage rounded to one decimal place.¹⁹ For the Outbound Single-Piece First-Class Mail International and the Inbound Single-Piece First-Class Mail International products, on-time service performances are to be reported at the National level as a percentage rounded to one decimal place.

¹⁹ The 3/4/5-day service standard is an aggregation of the 3-day, 4-day, and 5-day service standards. The Postal Service is required to demonstrate how it performs this aggregation, along with other similar aggregations appearing within other mail classes when describing its data reporting methodologies.

3. Standard Mail

Section 3055.21 specifies the annual reporting requirements for all products within the Standard Mail class. In all instances, on-time service performances are to be reported at the National level for each Standard Mail product as a percentage rounded to one decimal place.

4. Periodicals

Section 3055.22 specifies the annual reporting requirements for all products within the Periodicals class. In all instances, on-time service performances are to be reported at the National level for each Periodicals product as a percentage rounded to one decimal place.

5. Package Services

Section 3055.23 specifies the annual reporting requirements for all products within the Package Services class. In all instances, on-time service performances are to be reported at the National level for each Package Services product as a percentage rounded to one decimal place.

6. Special Services

Section 3055.24 specifies the annual reporting requirements for all products within the Special Services group. In all instances, the percentage of time that each product within Special Services meets or exceeds its performance objective is to be reported at the National level as a percentage rounded to one decimal place.

7. Nonpostal Products

Section 3055.25 is reserved for specific reporting requirements concerning nonpostal products once these products are added to the market dominant product list.

C. Quarterly Reports

1. General Considerations

This rulemaking proposes to incorporate the rules for quarterly reporting of service performance measurements into new subpart B—Periodic Reporting of Service Performance Achievements of Part 3055—Service Performance and Customer Satisfaction Reporting of the Commission's rules of practice and procedure. The rules proposed for incorporation into subpart B appear after the signature of this Order. Table VII-3—Illustrative Quarterly Report Data Reporting Charts provides a visualization of the annual data reporting elements proposed by the rules through illustrative examples of data reporting charts. A rule-by-rule description of subpart B follows.

Section 3055.30 specifies the general requirement for the Postal Service to file a quarterly report on service performance measurement within 40 days of the close of each fiscal quarter.

Section 3055.31 specifies the contents of each quarterly report. Paragraph (b) of this section directs the reader to specific reporting requirements applicable to each product within a specific class or group. Paragraph (c) of this section requires identification of each product, or component of a product, granted an exception from reporting pursuant to § 3055.3, along with a certification that the rationale for originally granting the exception remains valid. Finally, paragraphs (d) and (e) of this section direct the Postal Service to demonstrate how it aggregates/disaggregates data to different reporting levels.²⁰

²⁰ For further discussion on aggregation/disaggregation, see the discussion of § 3055.2, paragraphs (i) and (j) of this section above.

Section 3055.32 requires the Postal Service to independently report delivery factors when used in computing End-to-End service performance. The hybrid measurement system (proposed by the Postal Service for measuring a majority of Postal Service products by volume) measures End-to-End service performance in two steps. In the first step, a mail processing factor is developed, which measures the time from the start-the-clock event to the last recorded mail processing scan. In the second step, a delivery factor is developed which measures the time from the last recorded mail processing scan to actual delivery. The generation of delivery factors raises measurement and statistical issues that must be examined to understand the overall measurement results. Section 3055.32 provides visibility in this area.

2. First-Class Mail

Section 3055.45 specifies the quarterly reporting requirements for all products within the First-Class Mail class. In all instances, on-time service performances and service variances are to be individually reported for each First-Class Mail product as a percentage rounded to one decimal place.

For the Single-Piece Letters/Postcards, Bulk Letters/Postcards, Flats, and Parcels products, the rule proposes reporting at the District, Postal Administrative Area, and National levels. Reporting also is to be disaggregated by mail subject to the overnight, 2-day, and 3/4/5-day service standards.

For the Outbound Single-Piece First-Class Mail International and Inbound Single-Piece First-Class Mail International products, the rule proposes reporting at the Postal Administrative Area and National levels.

3. Standard Mail

Section 3055.50 specifies the quarterly reporting requirements for all products within the Standard Mail class. In all instances, on-time service performances and service variances are to be reported at the District, Postal Administrative Area, and National levels for each Standard Mail product as a percentage rounded to one decimal place.

Each Standard Mail product can be considered either Destination Entry or End-to-End mail. The Postal Service has established 2-day through 10-day service standards for Destination Entry mail. Destination Entry mail is separated into two groups for reporting purposes. The rule proposes reporting an aggregation of mail subject to the 2-day through 4-day service standards and an aggregation of mail subject to the 5-day through 10-day service standards.²¹ The Postal Service has established 3-day through 22-day service standards for End-to-End mail. End-to-End mail also is separated into two groups for reporting purposes. The rule proposes reporting an aggregation of mail subject to the 3-day through 5-day service standards and an aggregation of mail subject to the 6-day through 22-day service standards.²²

²¹ Destination Entry 2-day through 4-day service standard mail roughly coincides with DDU and DSCF entered mail. Destination Entry 5-day through 10-day service standard mail roughly coincides with DBMC and BMC entered mail.

²² End-to-End 3-day through 5-day service standard mail roughly coincides with SCF turnaround, ADC turnaround, and intra-BMC area mail. End-to-End 6-day through 22-day service standard mail roughly coincides with all other End-to-End mail subject to greater transportation needs.

4. Periodicals

Section 3055.55 specifies the quarterly reporting requirements for all products within the Periodicals class. In all instances, on-time service performances and service variances are to be reported at the Postal Administrative Area and National levels for each Periodicals product as a percentage rounded to one decimal place.

The Postal Service has established 1-day through 8-day service standards for Periodicals mail. The proposed rule requires the reporting of an aggregated number representing mail subject to the 1-day through 8-day service standards for each of the Periodicals products.

Performance reporting for the Outside County Periodicals product is to be further disaggregated by Destination Entry and End-to-End mail.

5. Package Services

Section 3055.60 specifies the quarterly reporting requirements for all products within the Package Services class. In all instances, on-time service performances are to be reported for each Package Services product as a percentage rounded to one decimal place. For reporting purposes, the Package Services products are separated into three groups: (1) Single-Piece Parcel Post; (2) Bound Printed Matter Flats, Bound Printed Matter Parcels, and Media Mail/Library Mail; and (3) Inbound Surface Parcel Post (at UPU rates).

The Postal Service has established 2-day through 20-day service standards for the Single-Piece Parcel Post product.²³ The rule proposes dividing the multiple Single-Piece Parcel Post service standards into two groups. It requires the reporting of an aggregated number representing mail subject to the 2-day through 4-day service standards and an aggregated number representing mail subject to the 5-day through 20-day service standards.²⁴ Reporting is to be provided at the District, Postal Administrative Area, and National levels.

²³ The Commission is assuming that Single-Piece Parcel Post mail is treated as End-to-End mail for the purpose of service standards.

²⁴ The 2-day through 4-day service standard mail roughly coincides with SCF turnaround and intra-BMC area mail. The 5-day through 20-day service standard mail roughly coincides with all other Single-Piece Parcel Post mail subject to greater transportation needs.

The Bound Printed Matter Flats, Bound Printed Matter Parcels, and Media Mail/Library Mail products can be considered either Destination Entry or End-to-End mail. The Postal Service has established 1-day through 8-day service standards for Destination Entry mail. The rule proposes reporting an aggregation of all Destination Entry mail subject to the 1-day through 8-day service standards. The Postal Service has established 2-day through 20-day service standards for End-to-End mail. The rule proposes reporting an aggregation of all End-to-End mail subject to the 2-day through 20-day service standards.

The rule proposes reporting a single service performance number for Inbound Surface Parcel Post (at UPU rates). Reporting is to be provided at the Postal Administrative Area and National levels.

6. Special Services

Section 3055.65 specifies the quarterly reporting requirements for all products within the Special Services group. In all instances, the percentage of time that each product within Special Services meets or exceeds its performance objective is to be reported at the National level as a percentage rounded to one decimal place.

Additional reporting is proposed for several of the 28 services that form a part of the Ancillary Services product to provide improved visibility. Separate reporting is proposed for Certified Mail and Return Receipt because of the importance of these services to customers and their substantial contribution to Ancillary Services' revenue. Separate reporting is proposed for Delivery Confirmation because of the Postal Service's reliance on this service as part of its measurement system for parcels. Separate reporting is proposed for Insurance because of consumer interest in the performance of this service.

Additional reporting also is proposed for the Post Office Box Service product. In addition to reporting at the National level, reporting also shall be provided at the District and Postal Administrative Area levels.

In Order No. 140, the Commission identified areas within the Special Services measurement systems that required improvement. In section V.—Special Services Measurement Systems that follows, the Commission analyzes the Postal Service's proposals for improving certain Special Services measurement systems and provides further detail on reporting requirements for these services.

7. Nonpostal Services

Section 3055.70 is reserved for specific reporting requirements concerning nonpostal products once these products are added to the market dominant product list.

V. Special Services Measurement Systems

In Order No. 140, the Commission reviewed the Postal Service's Plan to use various measurement systems for measuring service performance for market dominant products. The Commission generally agreed with the approach that the Postal Service proposed for most products, except for certain products that fell within Special Services.

On a general level, the Commission's recommendation for Special Services was “that the Postal Service determine the attributes of each [special] service including the customer's reasonable expectations of what is being purchased, and then design measurement systems considering these parameters.” Order No. 140 at 34-35.

The Commission specifically commented on Special Services that include a barcode scan. The proposed measurement systems for Special Services that include a barcode scan were limited to only measuring the time between when delivery information was collected to when information was made available to the customer. This did not appear to be representative of the services that a customer had purchased or would expect, when considering that the proposed measurement systems would not pick up failures such as not scanning a mailpiece at delivery or attempted delivery, or a failure of the scanning equipment itself.

The Commission used Delivery Confirmation to demonstrate its specific concerns with the various barcode scan measurement systems. The Commission concluded that “[a]t a minimum, the Postal Service must incorporate into its proposed measurement systems for Delivery Confirmation and other similar electronic systems a factor for the volume of services purchased versus the volume of services successfully completed.” (Footnote omitted.) Id. at 34. The expectation is for this recommendation to be incorporated into all applicable barcode scan-based systems.

The Commission also focused on Certified Mail, Post Office Boxes, and Return Receipt in part because they account for nearly 70 percent of overall Special Services revenue. Id. at 33. The concerns with Certified Mail paralleled the concerns for Delivery Confirmation as presented above. The measurement approach proposed for Post Office Boxes was found acceptable. Id. at 35. Finally, the Commission expressed concerns with the proposed measurement system for Return Receipt. The Postal Service proposed to only measure electronic Return Receipt by using the same measurement system as it proposed for Delivery Confirmation. However, the vast majority of Return Receipt service is provided through delivery of the green Return Receipt card, which the Postal Service did not propose to measure in any way.

Order No. 140 concluded by approving the measurement approaches for Post Office Box Service, Insurance claims processing, Postal Money Order inquiry processing, and Address List Services. However, because of the concerns summarized above, it directed the Postal Service to “proceed with external measurement of service performance for Certified, Return Receipt, and Delivery Confirmation or develop an alternative internal measurement system by June 2009.” Id.

The Postal Service responded to the Commission's concerns on May 15, 2009 in a letter from Thomas G. Day, Senior Vice President, Intelligent Mail and Address Quality, United States Postal Service, to Dan G. Blair, Chairman, Postal Regulatory Commission.

Because of the similarities of the proposed measurement systems for Certified Mail and Delivery Confirmation, the Postal Service address both systems together. The Postal Service proposes to modify the measurement systems as suggested by the Commission.

Accordingly, the Postal Service has modified its methodology for calculating on-time delivery-related information availability for Certified Mail and Delivery Confirmation services. In the denominator for calculating the percentage of pieces for which delivery-related information was made available within the 24-hour service standard, the Postal Service will include all pieces for which the delivery information service was purchased, irrespective of whether there is a delivery-related scan corresponding to each acceptance scan. The numerator will include only those pieces for which there was both a delivery scan and availability of delivery information within 24 hours of that delivery scan. Thus, for the universe of pieces for which there is an acceptance scan, the service measurement performance score will reflect the percentage of such pieces for which delivery-related information is obtained, and then provided to the sender within 24 hours. A failure to obtain delivery scan will be regarded as a Certified Mail or Delivery Confirmation service failure.

See May 15, 2009 Letter from Thomas G. Day, Attachment at 3. (Emphasis omitted.)

The Commission finds that the Postal Service's modified approach to measuring Certified Mail and Delivery Confirmation service is an improvement over its original proposals and should produce results that more accurately measure the expectations of customers purchasing the services. The Commission reiterates its expectation that the proposed solutions for Certified Mail and Delivery Confirmation service are to be incorporated into all similar barcode scan-based systems, where applicable.

The Postal Service proposes two systems for measuring the hard-copy green card Return Receipt service. First, it proposes to undertake an annual special study by employing “an external vendor to periodically test transit times from induction to delivery for hard copy Return Receipt cards, using anonymous dropper/reporters who would drop the cards in collection boxes and other induction points throughout the postal network to simulate the deposit of Return Receipt green cards being mailed back to senders.” Id. at 6. Second, it “proposes to qualitatively measure hard copy Return Receipt customers' experiences versus their expectations.” Id. at 8. This is proposed to be done through modification of existing Postal Service customer surveys.

It is noted that the Postal Service expresses concerns with implementing a green card Return Receipt service measurement system. First, it cites significant costs associated with making adjustments to existing systems or to developing external measurement systems. Second, the Postal Service examines the feasibility of applying barcodes to the green cards, but dismisses this idea because it might cause a fundamental change in the product with cost and fee implications. Third, it examines an EXFC-based approach, but determines that the approach that it eventually proposes is more streamlined and economical. Finally, it discusses problems with the potential lag times involved in providing the service, and the inability of the Postal Service to ensure that the green cards are properly completed.

The Commission still finds the Postal Service's proposals for measuring the green card Return Receipt service lacking by not measuring the service expectations of a customer purchasing the service. The proposal to measure green card transit times by dropping green cards into the system does little more than measure the transit time of a First-Class Mail card. This information is readily available. The Postal Service proposal to survey customer satisfaction with green card Return Receipt service is a measure of customer satisfaction and not service performance. Reporting of customer satisfaction is reported separately under the PAEA.

Two sections in the Domestic Mail Manual appear particularly applicable to the expectations of customers purchasing green card Return Receipt:

The mailpiece may not be opened or given to the recipient before the recipient signs and legibly prints his or her name on the delivery receipt (and return receipt, if applicable) and returns the receipt(s) to the USPS employee.

DMM section 508.1.1.7(b).

A notice is left for a mailpiece that cannot be delivered. If the piece is not called for or redelivery is not requested, the piece is returned to the sender after 15 days (5 days for Express Mail, 30 days for COD) unless the sender specifies fewer days on the piece.

DMM section 508.1.1.7(f).

Paragraph 508.1.1.7(b) specifies what action the purchaser of the service expects from the Postal Service when presenting a mailpiece to a potential recipient. Simplistically, the recipient does not obtain possession of the mailpiece prior to the Postal Service employee obtaining a signature on the green card. Paragraph 508.1.1.7(f) specifies what action the purchaser of the service expects from the Postal Service if a signature cannot be obtained. It also places time constraints (not including transit times) on the performance of the service that also can be used in a measurement system.

The Commission recommends that the Postal Service develop a measurement system taking the above into consideration. An EXFC-based system would appear appropriate. Outgoing EXFC mail could be seeded with green Return Receipt cards. After mailing, a Postal Service employee would present the mailpiece to the potential recipient for signature. If a signature is obtained, the Postal Service employee would deposit the green card into the mail system for return to the sender. The original sender would record return of the green card and verify that it has been signed, if and when the card is received. If a signature is not obtained within the applicable timeframe, the Postal Service employee would return the unsigned mailpiece to the original sender. The original sender would record return of the mailpiece, if and when the mailpiece is received. A 25- to 30-day time limit could be placed for all events to occur; otherwise, a service failure would be recorded. On a quarterly basis, the Postal Service could report: (1) The number of EXFC seed mailpieces sent; (2) the percentage of green cards properly completed and returned (passing); (3) the percentage of green cards not properly completed, but returned (failure); (4) the percentage of mailpieces returned without a green card signature (passing); and (5) the percentage of the time the service receives a passing grade. This would be with respect to the applicable time limits as discussed above. On an annual basis, the Postal Service would report the percentage of the time the service receives a passing grade as part of the Ancillary Services score.

Many variations of the Commission's suggestion are possible. The Postal Service is instructed to provide a response, or suggestions of its own, in its reply to this rulemaking.

VI. Reporting of Customer Satisfaction

A. General Considerations

This rulemaking proposes to incorporate the rules for reporting of customer satisfaction into new subpart C—Annual Reporting of Customer Satisfaction of Part 3055—Service Performance and Customer Satisfaction Reporting of the Commission's rules of practice and procedure. The rules proposed for incorporation into subpart C appear after the signature of this Order. Table VII-4—Illustrative Customer Satisfaction Data Reporting Charts provides a visualization of the annual data reporting elements proposed by the rules through illustrative examples of data reporting charts. A rule-by-rule description of subpart C follows.

Section 3055.90 specifies the general requirement for the Postal Service to file a report on customer satisfaction as part of its annual compliance report, unless more frequent reporting is specifically requested. See 39 U.S.C. 3652(a)(2)(B)(ii).

B. Section 3055.91—Customer Access to Postal Services

Measuring customer access to postal services is an important aspect of customer satisfaction and a critical aspect of evaluating universal service. Section 3055.91 requires providing information covering four areas of customer access. First, it requests information on the number and types of post offices servicing the public. This also includes information on the number of post offices closed and the number of post offices subject to emergency suspensions during the year. This information is to be disaggregated by the types of post offices as appearing in the Postal Service's Annual Report. Second, it seeks information pertaining to the number and type of delivery points accessed by the Postal Service. Third, it requests information pertaining to the number of collection boxes accessed by the Postal Service. Finally, it seeks information on customer wait time in line for retail services.²⁵

²⁵ Statistics on wait time in line are of general interest and are to be reported separately as required by this section. It is understood that these statistics may be obtained through the Mystery Shopper Program, or other similar surveys, and also reported elsewhere.

The rules propose reporting of customer access to postal services on an annual basis. While this frequency of reporting may suffice given a long-term outlook, customer access is currently a high visibility issue. News reports appear almost daily concerning potential post office closings and the removal of collection boxes. This has generated significant consumer and congressional interest evident by frequent inquiries received by the Commission. As with any data reporting requirement, the Commission also is aware that reporting requirements impose costs on the postal system. Additional systems may have to be put in place to obtain and report the requested customer access data items if such systems do not already exist.

As a compromise to obtaining current information and limiting long-term costs, the Commission suggests that in the short term, the Postal Service provide customer access data items on a quarterly basis. Once the current decline in mail volume ebbs and the Postal Service reaches its new state of equilibrium, annual reports should suffice. This compromise would provide the Commission with the immediate information that it needs to be responsive to consumers and Congress without imposing undue costs or unnecessary burden on the Postal Service in the long run. The Commission seeks comments from the Postal Service and others on how best to keep the Commission apprised of these issues such that the Commission can fulfill its responsibilities in a knowledgeable manner.

C. Section 3055.92—Customer Satisfaction Surveys

The Postal Service regularly solicits feedback from its customers through a series of customer satisfaction surveys. The Postal Service has asserted that it intends to redesign its Customer Satisfaction Measurement Survey to meet the requirements of the PAEA and to generate customer satisfaction data on a product-by-product basis.²⁶ Any enlightened business will find it good practice to stay current on its customers' preferences and needs, including how its customers perceive existing product offerings and services. Properly obtaining and analyzing information from customers will prove extremely valuable in evaluating customer satisfaction as required by the PAEA, and as a necessary good business practice. Because product offerings and services along with customer perceptions will change over time, the form and content of customer satisfaction surveys also must change over time. Given the Commission's independent perspective and its role in providing an alternative avenue of obtaining customer input on postal services, the Commission offers its assistance to ensure that future consumer surveys produce reliable and meaningful information. Participation in this process may provide insight into more appropriate ways to report on customer satisfaction. The Postal Service is invited to comment on any future role the Commission might consider in this area.

²⁶ Docket No. PI2008-1, Reply Comments of the United States Postal Service, February 1, 2008, at 11.

Section 3055.92 requires the Postal Service to file with the Commission a copy of each type of survey instrument used in the preceding fiscal year, and to report a summary of the information obtained, on an annual basis. Where the Postal Service solicits information through multiple choice questions, it is required to provide additional detail by providing the number of responses obtained for each possible response. The summary of information obtained also must include a description of the customer type targeted by each distinct type of survey instrument, and statistics on the number of surveys initiated and the number of surveys returned to the Postal Service.

D. Section 3055.93—Mystery Shopper Program

The Postal Service currently conducts a Mystery Shopper Program to evaluate the performance of its retail postal facilities. The Commission has been made aware that the information gathered from this program is summarized and reported quarterly to Postal Service management through a National Executive Summary Report.

The importance of the Postal Service obtaining information on how its services are being provided is no less important than obtaining information on customer perceptions as discussed above concerning the customer satisfaction surveys. The Commission is aware that the Mystery Shopper Program is a management tool for developing proprietary information. The Commission also is aware of the necessity that the “mystery” of the program be maintained. These factors suggest that confidential treatment consistent with 39 CFR part 3007 will be appropriate for certain information developed by this program.

Section 3055.93 seeks information obtained from the Mystery Shopper Program. It requires the Postal Service to file a copy of the National Executive Summary Reports on a quarterly basis, along with each type of survey instrument used in preparing each report. The Postal Service is invited to identify any alternative obtainable information on its performance at retail facilities relevant to customer satisfaction that might serve as a satisfactory substitute.

E. Future Data Reporting Item

In Docket No. N2009-1, the Postal Service provided information on alternative access channels for obtaining postage and certain postal services. The Postal Service's response to PR/USPS-T1-8 provides percentages of revenues obtained through various “brick and mortar” and alternative access channels.²⁷ The Postal Service's response to PR/USPS-T1-1 provides a comparison of products that can be purchased in brick and mortar facilities and products that can be purchased online.²⁸

²⁷ Responses of United States Postal Service Witness VanGorder to Public Representative Interrogatories PR/USPS-T1-1-5, and 7(c-d), 8, July 27, 2009.

²⁸ United States Postal Service Notice of Errata in Filing of Response of Witness VanGorder to Public Representative Interrogatory PR/USPS-T1-1(a) [Errata], July 28, 2009.

The Postal Service may find that reporting of this information will provide a more balanced view of the current status of customer access to postal services. Reporting also may provide another avenue to promote the use of alternative access channels. The Commission seeks comments on the benefits of reporting this aspect of customer access and any proposal that the Postal Service may have on what and how any related data items can be reported.

VII. Supporting Information

Table VII-1—Market Dominant Product List as of August 10, 2009

Organizational class or group | Products
First-Class Mail | Single-Piece Letters/Postcards.
| Bulk Letters/Postcards.
| Flats.
| Parcels.
| Outbound Single-Piece First-Class Mail International.
| Inbound Single-Piece First-Class Mail International.
Standard Mail (Regular and Nonprofit) | High Density and Saturation Letters.
| High Density and Saturation Flats/Parcels.
| Carrier Route.
| Letters.
| Flats.
| Not Flat-Machinables (NFMs)/Parcels.
Periodicals | Within County Periodicals.
| Outside County Periodicals.
Package Services | Single-Piece Parcel Post.
| Inbound Surface Parcel Post (at UPU rates).
| Bound Printed Matter Flats.
| Bound Printed Matter Parcels.
| Media Mail/Library Mail.
Special Services | Ancillary Services (Components of Ancillary Services below product level).
| Address Correction Service.
| Applications and Mailing Permits.
| Business Reply Mail.
| Bulk Parcel Return Service.
| Certified Mail.
| Certificate of Mailing.
| Collect on Delivery.
| Delivery Confirmation.
| Insurance.
| Merchandise Return Service.
| Parcel Airlift (PAL).
| Registered Mail.
| Return Receipt.
| Return Receipt for Merchandise.
| Restricted Delivery.
| Shipper-Paid Forwarding.
| Signature Confirmation Service.
| Special Handling.
| Stamped Envelopes.
| Stamped Cards.
| Premium Stamped Stationery.
| Premium Stamped Cards.
| International Ancillary Services (Components of International Ancillary Services below product level).
| International Certificate of Mailing.
| International Registered Mail.
| International Return Receipt.
| International Restricted Delivery.
| International Insurance *.
| Customs Clearance and Delivery Fee *.
| Address List Services.
| Caller Service.
| Change-of-Address Credit Card Authentication.
| Confirm.
| International Reply Coupon Service.
| International Business Reply Mail Service.
| Money Orders.
| Post Office Box Service.
Negotiated Service Agreements ** | Standard Mail Declining Block Rates (Organizational Subgroup) *.
| The Bradford Group Negotiated Service Agreement (Product).
| Life Line Screening Negotiated Service Agreement (Product) *.
| Barcode Mail Preparation Enhancement (Organizational Subgroup) *.
| Bank of America Corporation Negotiated Service Agreement (Product).
| Inbound International (Organizational Subgroup).
| Canada Post—United States Postal Service Contractual Bilateral.
| Agreement for Inbound Market Dominant Services (Product).
Nonpostal Services * | TBD *
* Items marked with an asterisk (*) appear in the draft Mail Classification Schedule, but not in the product list published in the CFR and periodically updated through Federal Register notices.
** The HSBC North America Holdings Inc. Negotiated Service Agreement product has expired as of November 1, 2008 and is not included in the above product list. The Bookspan Negotiated Service Agreement product has expired as of June 1, 2009 and is not included in the above product list.

Table VII-2—Illustrative Annual Report Data Reporting Charts

A. First-Class Mail On-Time Service Performance

First-class mail | Target | Percent on-time
Single-Piece Letters/Postcards
Overnight | xx.x | xx.x
2-day | xx.x | xx.x
3/4/5-day | xx.x | xx.x
Bulk Letters/Postcards
Overnight | xx.x | xx.x
2-day | xx.x | xx.x
3/4/5-day | xx.x | xx.x
Flats
Overnight | xx.x | xx.x
2-day | xx.x | xx.x
3/4/5-day | xx.x | xx.x
Parcels
Overnight | xx.x | xx.x
2-day | xx.x | xx.x
3/4/5-day | xx.x | xx.x
Outbound Single-Piece First-Class Mail International | xx.x | xx.x
Inbound Single-Piece First-Class Mail International | xx.x | xx.x

B. Standard Mail On-Time Service Performance

Standard mail | Target | Percent on-time
High Density and Saturation Letters | xx.x | xx.x
High Density and Saturation Flats/Parcels | xx.x | xx.x
Carrier Route | xx.x | xx.x
Letters | xx.x | xx.x
Flats | xx.x | xx.x
Not Flat-Machinables (NFMs)/Parcels | xx.x | xx.x

C. Periodicals On-Time Service Performance

Periodicals | Target | Percent on-time
Within County Periodicals | xx.x | xx.x
Outside County Periodicals | xx.x | xx.x

D. Package Services On-Time Service Performance

Package services | Target | Percent on-time
Single-Piece Parcel Post | xx.x | xx.x
Bound Printed Matter Flats | xx.x | xx.x
Bound Printed Matter Parcels | xx.x | xx.x
Media Mail/Library Mail | xx.x | xx.x
Inbound Surface Parcel Post (at UPU rates) | xx.x | xx.x

E. Special Services Performance

Special services | Target | Percent meeting target
Ancillary Services | xx.x | xx.x
International Ancillary Services | xx.x | xx.x
Address List Services | xx.x | xx.x
Caller Services | xx.x | xx.x
Change of Address Credit Card Authentication | xx.x | xx.x
Confirm | xx.x | xx.x
International Reply Coupon Service | xx.x | xx.x
International Business Reply Mail Service | xx.x | xx.x
Money Orders | xx.x | xx.x
Post Office Box Service | xx.x | xx.x
Customized Postage | xx.x | xx.x
Stamp Fulfillment Services | xx.x | xx.x

Table VII-3—Illustrative Quarterly Report Data Reporting Charts

A. First-Class Mail

1. On-Time Service Performance

First-class mail | Overnight percent on-time | 2-day percent on-time | 3/4/5-day percent on-time
Single-Piece Letters/Postcards
Postal Administrative Area Level No. 1 | xx.x | xx.x | xx.x
District a | xx.x | xx.x | xx.x
* * * * * * *
District z | xx.x | xx.x | xx.x
* * * * * * *
Postal Administrative Area Level n | xx.x | xx.x | xx.x
District aa | xx.x | xx.x | xx.x
* * * * * * *
District zz | xx.x | xx.x | xx.x
National | xx.x | xx.x | xx.x
Bulk Letters/Postcards
Postal Administrative Area Level No. 1 | xx.x | xx.x | xx.x
District a | xx.x | xx.x | xx.x
* * * * * * *
District z | xx.x | xx.x | xx.x
* * * * * * *
Postal Administrative Area Level n | xx.x | xx.x | xx.x
District aa | xx.x | xx.x | xx.x
* * * * * * *
District zz | xx.x | xx.x | xx.x
National | xx.x | xx.x | xx.x
Flats
Postal Administrative Area Level No. 1 | xx.x | xx.x | xx.x
District a | xx.x | xx.x | xx.x
* * * * * * *
District z | xx.x | xx.x | xx.x
* * * * * * *
Postal Administrative Area Level n | xx.x | xx.x | xx.x
District aa | xx.x | xx.x | xx.x
* * * * * * *
District zz | xx.x | xx.x | xx.x
National | xx.x | xx.x | xx.x
Parcels
Postal Administrative Area Level No. 1 | xx.x | xx.x | xx.x
District a | xx.x | xx.x | xx.x
* * * * * * *
District z | xx.x | xx.x | xx.x
* * * * * * *
Postal Administrative Area Level n | xx.x | xx.x | xx.x
District aa | xx.x | xx.x | xx.x
* * * * * * *
District zz | xx.x | xx.x | xx.x
National | xx.x | xx.x | xx.x

First-class mail | Composite percent on-time
Outbound Single-Piece First-Class Mail International
Postal Administrative Area Level No. 1 | xx.x
* * * * * * *
Postal Administrative Area Level n | xx.x
National | xx.x
Inbound Single-Piece First-Class Mail International
Postal Administrative Area Level No. 1 | xx.x
* * * * * * *
Postal Administrative Area Level n | xx.x
National | xx.x

2. Mail Service Variance

First-class mail | Overnight (%): Within +1 day | Overnight (%): Within +2 days | Overnight (%): Within +3 days | 2-day (%): Within +1 day | 2-day (%): Within +2 days | 2-day (%): Within +3 days | 3/4/5-day (%): Within +1 day | 3/4/5-day (%): Within +2 days | 3/4/5-day (%): Within +3 days
Single-Piece Letters/Postcards
Postal Administrative Area Level No. 1 | xx.x | xx.x | xx.x | xx.x | xx.x | xx.x | xx.x | xx.x | xx.x
District a | xx.x | xx.x | xx.x | xx.x | xx.x | xx.x | xx.x | xx.x | xx.x
* * * * * * *
District z | xx.x | xx.x | xx.x | xx.x | xx.x | xx.x | xx.x | xx.x | xx.x
* * * * * * *
Postal Administrative Area Level n | xx.x | xx.x | xx.x | xx.x | xx.x | xx.x | xx.x | xx.x | xx.x
District aa | xx.x | xx.x | xx.x | xx.x | xx.x | xx.x | xx.x | xx.x | xx.x
* * * * * * *
District zz | xx.x | xx.x | xx.x | xx.x | xx.x | xx.x | xx.x | xx.x | xx.x
National | xx.x | xx.x | xx.x | xx.x | xx.x | xx.x | xx.x | xx.x | xx.x
Bulk Letters/Postcards
Postal Administrative Area Level No. 1 | xx.x | xx.x | xx.x | xx.x | xx.x | xx.x | xx.x | xx.x | xx.x
District a | xx.x | xx.x | xx.x | xx.x | xx.x | xx.x | xx.x | xx.x | xx.x
* * * * * * *
District z | xx.x | xx.x | xx.x | xx.x | xx.x | xx.x | xx.x | xx.x | xx.x
* * * * * * *
Postal Administrative Area Level n | xx.x | xx.x | xx.x | xx.x | xx.x | xx.x | xx.x | xx.x | xx.x
District aa | xx.x | xx.x | xx.x | xx.x | xx.x | xx.x | xx.x | xx.x | xx.x
* * * * * * *
District zz | xx.x | xx.x | xx.x | xx.x | xx.x | xx.x | xx.x | xx.x | xx.x
National | xx.x | xx.x | xx.x | xx.x | xx.x | xx.x | xx.x | xx.x | xx.x
Flats
Postal Administrative Area Level No. 1 | xx.x | xx.x | xx.x | xx.x | xx.x | xx.x | xx.x | xx.x | xx.x
District a | xx.x | xx.x | xx.x | xx.x | xx.x | xx.x | xx.x | xx.x | xx.x
* * * * * * *
District z | xx.x | xx.x | xx.x | xx.x | xx.x | xx.x | xx.x | xx.x | xx.x
* * * * * * *
Postal Administrative Area Level n | xx.x | xx.x | xx.x | xx.x | xx.x | xx.x | xx.x | xx.x | xx.x
District aa | xx.x | xx.x | xx.x | xx.x | xx.x | xx.x | xx.x | xx.x | xx.x
* * * * * * *
District zz | xx.x | xx.x | xx.x | xx.x | xx.x | xx.x | xx.x | xx.x | xx.x
National | xx.x | xx.x | xx.x | xx.x | xx.x | xx.x | xx.x | xx.x | xx.x

2. Mail Service Variance

First-class mail | Overnight (%): Within +1 day | Overnight (%): Within +2 days | Overnight (%): Within +3 days | 2-day (%): Within +1 day | 2-day (%): Within +2 days | 2-day (%): Within +3 days | 3/4/5-day (%): Within +1 day | 3/4/5-day (%): Within +2 days | 3/4/5-day (%): Within +3 days
Parcels
Postal Administrative Area Level No. 1 | xx.x | xx.x | xx.x | xx.x | xx.x | xx.x | xx.x | xx.x | xx.x
District a | xx.x | xx.x | xx.x | xx.x | xx.x | xx.x | xx.x | xx.x | xx.x
* * * * * * *
District z | xx.x | xx.x | xx.x | xx.x | xx.x | xx.x | xx.x | xx.x | xx.x
* * * * * * *
Postal Administrative Area Level n | xx.x | xx.x | xx.x | xx.x | xx.x | xx.x | xx.x | xx.x | xx.x
District aa | xx.x | xx.x | xx.x | xx.x | xx.x | xx.x | xx.x | xx.x | xx.x
* * * * * * *
District zz | xx.x | xx.x | xx.x | xx.x | xx.x | xx.x | xx.x | xx.x | xx.x
National | xx.x | xx.x | xx.x | xx.x | xx.x | xx.x | xx.x | xx.x | xx.x

First-class mail | Composite (%): Within +1 day | Composite (%): Within +2 days | Composite (%): Within +3 days
Outbound Single-Piece First-Class Mail International
Postal Administrative Area Level No. 1 | xx.x | xx.x | xx.x
* * * * * * *
Postal Administrative Area Level n | xx.x | xx.x | xx.x
National | xx.x | xx.x | xx.x
Inbound Single-Piece First-Class Mail International
Postal Administrative Area Level No. 1 | xx.x | xx.x | xx.x
* * * * * * *
Postal Administrative Area Level n | xx.x | xx.x | xx.x
National | xx.x | xx.x | xx.x

B. Standard Mail On-Time Service Performance

1. On-Time Service Performance

Standard mail | Destination entry: 2-day through 4-day percent on-time | Destination entry: 5-day through 10-day percent on-time | End-to-end: 3-day through 5-day percent on-time | End-to-end: 6-day through 22-day percent on-time
High Density and Saturation Letters
Postal Administrative Area Level No. 1 | xx.x | xx.x | xx.x | xx.x
District a | xx.x | xx.x | xx.x | xx.x
* * * * * * *
District z | xx.x | xx.x | xx.x | xx.x
* * * * * * *
Postal Administrative Area Level n | xx.x | xx.x | xx.x | xx.x
District aa | xx.x | xx.x | xx.x | xx.x
* * * * * * *
District zz | xx.x | xx.x | xx.x | xx.x
National | xx.x | xx.x | xx.x | xx.x
High Density and Saturation Flats/Parcels
Postal Administrative Area Level No. 1 | xx.x | xx.x | xx.x | xx.x
District a | xx.x | xx.x | xx.x | xx.x
* * * * * * *
District z | xx.x | xx.x | xx.x | xx.x
* * * * * * *
Postal Administrative Area Level n | xx.x | xx.x | xx.x | xx.x
District aa | xx.x | xx.x | xx.x | xx.x
* * * * * * *
District zz | xx.x | xx.x | xx.x | xx.x
National | xx.x | xx.x | xx.x | xx.x
Carrier Route
Postal Administrative Area Level No. 1 | xx.x | xx.x | xx.x | xx.x
District a | xx.x | xx.x | xx.x | xx.x
* * * * * * *
District z | xx.x | xx.x | xx.x | xx.x
* * * * * * *
Postal Administrative Area Level n | xx.x | xx.x | xx.x | xx.x
District aa | xx.x | xx.x | xx.x | xx.x
* * * * * * *
District zz | xx.x | xx.x | xx.x | xx.x
National | xx.x | xx.x | xx.x | xx.x

Standard mail | Destination entry: 2-day through 4-day percent on-time | Destination entry: 5-day through 10-day percent on-time | End-to-end: 3-day through 5-day percent on-time | End-to-end: 6-day through 22-day percent on-time
Letters
Postal Administrative Area Level No. 1 | xx.x | xx.x | xx.x | xx.x
District a | xx.x | xx.x | xx.x | xx.x
* * * * * * *
District z | xx.x | xx.x | xx.x | xx.x
* * * * * * *
Postal Administrative Area Level n | xx.x | xx.x | xx.x | xx.x
District aa | xx.x | xx.x | xx.x | xx.x
* * * * * * *
District zz | xx.x | xx.x | xx.x | xx.x
National | xx.x | xx.x | xx.x | xx.x
Flats
Postal Administrative Area Level No. 1 | xx.x | xx.x | xx.x | xx.x
District a | xx.x | xx.x | xx.x | xx.x
* * * * * * *
District z | xx.x | xx.x | xx.x | xx.x
* * * * * * *
Postal Administrative Area Level n | xx.x | xx.x | xx.x | xx.x
District aa | xx.x | xx.x | xx.x | xx.x
* * * * * * *
District zz | xx.x | xx.x | xx.x | xx.x
National | xx.x | xx.x | xx.x | xx.x
Not Flat-Machinables (NFMs)/Parcels
Postal Administrative Area Level No. 1 | xx.x | xx.x | xx.x | xx.x
District a | xx.x | xx.x | xx.x | xx.x
* * * * * * *
District z | xx.x | xx.x | xx.x | xx.x
* * * * * * *
Postal Administrative Area Level n | xx.x | xx.x | xx.x | xx.x
District aa | xx.x | xx.x | xx.x | xx.x
* * * * * * *
District zz | xx.x | xx.x | xx.x | xx.x
National | xx.x | xx.x | xx.x | xx.x

2. Mail Service Variance

Standard mail | Destination entry (%): 2-day through 4-day: Within +1 day | Destination entry (%): 2-day through 4-day: Within +2 days | Destination entry (%): 2-day through 4-day: Within +3 days | Destination entry (%): 5-day through 10-day: Within +1 day | Destination entry (%): 5-day through 10-day: Within +2 days | Destination entry (%): 5-day through 10-day: Within +3 days | End-to-end (%): 3-day through 5-day: Within +1 day | End-to-end (%): 3-day through 5-day: Within +2 days | End-to-end (%): 3-day through 5-day: Within +3 days | End-to-end (%): 6-day through 22-day: Within +1 day | End-to-end (%): 6-day through 22-day: Within +2 days | End-to-end (%): 6-day through 22-day: Within +3 days
High Density and Saturation Letters
Postal Administrative Area Level No. 1 | xx.x | xx.x | xx.x | xx.x | xx.x | xx.x | xx.x | xx.x | xx.x | xx.x | xx.x | xx.x
District a | xx.x | xx.x | xx.x | xx.x | xx.x | xx.x | xx.x | xx.x | xx.x | xx.x | xx.x | xx.x
* * * * * * *
District z | xx.x | xx.x | xx.x | xx.x | xx.x | xx.x | xx.x | xx.x | xx.x | xx.x | xx.x | xx.x
* * * * * * *
Postal Administrative Area Level n | xx.x | xx.x | xx.x | xx.x | xx.x | xx.x | xx.x | xx.x | xx.x | xx.x | xx.x | xx.x
District aa | xx.x | xx.x | xx.x | xx.x | xx.x | xx.x | xx.x | xx.x | xx.x | xx.x | xx.x | xx.x
* * * * * * *
District zz | xx.x | xx.x | xx.x | xx.x | xx.x | xx.x | xx.x | xx.x | xx.x | xx.x | xx.x | xx.x
National | xx.x | xx.x | xx.x | xx.x | xx.x | xx.x | xx.x | xx.x | xx.x | xx.x | xx.x | xx.x
High Density and Saturation Flats/Parcels
Postal Administrative Area Level No. 1 | xx.x | xx.x | xx.x | xx.x | xx.x | xx.x | xx.x | xx.x | xx.x | xx.x | xx.x | xx.x
District a | xx.x | xx.x | xx.x | xx.x | xx.x | xx.x | xx.x | xx.x | xx.x | xx.x | xx.x | xx.x
* * * * * * *
District z | xx.x | xx.x | xx.x | xx.x | xx.x | xx.x | xx.x | xx.x | xx.x | xx.x | xx.x | xx.x
* * * * * * *
Postal Administrative Area Level n | xx.x | xx.x | xx.x | xx.x | xx.x | xx.x | xx.x | xx.x | xx.x | xx.x | xx.x | xx.x
District aa | xx.x | xx.x | xx.x | xx.x | xx.x | xx.x | xx.x | xx.x | xx.x | xx.x | xx.x | xx.x
* * * * * * *
District zz | xx.x | xx.x | xx.x | xx.x | xx.x | xx.x | xx.x | xx.x | xx.x | xx.x | xx.x | xx.x
National | xx.x | xx.x | xx.x | xx.x | xx.x | xx.x | xx.x | xx.x | xx.x | xx.x | xx.x | xx.x

Standard mail | Destination entry (%): 2-day through 4-day: Within +1 day | Destination entry (%): 2-day through 4-day: Within +2 days | Destination entry (%): 2-day through 4-day: Within +3 days | Destination entry (%): 5-day through 10-day: Within +1 day | Destination entry (%): 5-day through 10-day: Within +2 days | Destination entry (%): 5-day through 10-day: Within +3 days | End-to-end (%): 3-day through 5-day: Within +1 day | End-to-end (%): 3-day through 5-day: Within +2 days | End-to-end (%): 3-day through 5-day: Within +3 days | End-to-end (%): 6-day through 22-day: Within +1 day | End-to-end (%): 6-day through 22-day: Within +2 days | End-to-end (%): 6-day through 22-day: Within +3 days
Carrier Route
Postal Administrative Area Level No. 1 | xx.x | xx.x | xx.x | xx.x | xx.x | xx.x | xx.x | xx.x | xx.x | xx.x | xx.x | xx.x
District a | xx.x | xx.x | xx.x | xx.x | xx.x | xx.x | xx.x | xx.x | xx.x | xx.x | xx.x | xx.x
* * * * * * *
District z | xx.x | xx.x | xx.x | xx.x | xx.x | xx.x | xx.x | xx.x | xx.x | xx.x | xx.x | xx.x
* * * * * * *
Postal Administrative Area Level n | xx.x | xx.x | xx.x | xx.x | xx.x | xx.x | xx.x | xx.x | xx.x | xx.x | xx.x | xx.x
District aa | xx.x | xx.x | xx.x | xx.x | xx.x | xx.x | xx.x | xx.x | xx.x | xx.x | xx.x | xx.x
* * * * * * *
District zz | xx.x | xx.x | xx.x | xx.x | xx.x | xx.x | xx.x | xx.x | xx.x | xx.x | xx.x | xx.x
National | xx.x | xx.x | xx.x | xx.x | xx.x | xx.x | xx.x | xx.x | xx.x | xx.x | xx.x | xx.x
Letters
Postal Administrative Area Level No. 1 | xx.x | xx.x | xx.x | xx.x | xx.x | xx.x | xx.x | xx.x | xx.x | xx.x | xx.x | xx.x
District a | xx.x | xx.x | xx.x | xx.x | xx.x | xx.x | xx.x | xx.x | xx.x | xx.x | xx.x | xx.x
* * * * * * *
District z | xx.x | xx.x | xx.x | xx.x | xx.x | xx.x | xx.x | xx.x | xx.x | xx.x | xx.x | xx.x
* * * * * * *
Postal Administrative Area Level n | xx.x | xx.x | xx.x | xx.x | xx.x | xx.x | xx.x | xx.x | xx.x | xx.x | xx.x | xx.x
District aa | xx.x | xx.x | xx.x | xx.x | xx.x | xx.x | xx.x | xx.x | xx.x | xx.x | xx.x | xx.x
* * * * * * *
District zz | xx.x | xx.x | xx.x | xx.x | xx.x | xx.x | xx.x | xx.x | xx.x | xx.x | xx.x | xx.x
National | xx.x | xx.x | xx.x | xx.x | xx.x | xx.x | xx.x | xx.x | xx.x | xx.x | xx.x | xx.x

Standard mail | Destination entry (%): 2-day through 4-day: Within +1 day | Destination entry (%): 2-day through 4-day: Within +2 days | Destination entry (%): 2-day through 4-day: Within +3 days | Destination entry (%): 5-day through 10-day: Within +1 day | Destination entry (%): 5-day through 10-day: Within +2 days | Destination entry (%): 5-day through 10-day: Within +3 days | End-to-end (%): 3-day through 5-day: Within +1 day | End-to-end (%): 3-day through 5-day: Within +2 days | End-to-end (%): 3-day through 5-day: Within +3 days | End-to-end (%): 6-day through 22-day: Within +1 day | End-to-end (%): 6-day through 22-day: Within +2 days | End-to-end (%): 6-day through 22-day: Within +3 days
Flats
Postal Administrative Area Level No. 1 | xx.x | xx.x | xx.x | xx.x | xx.x | xx.x | xx.x | xx.x | xx.x | xx.x | xx.x | xx.x
District a | xx.x | xx.x | xx.x | xx.x | xx.x | xx.x | xx.x | xx.x | xx.x | xx.x | xx.x | xx.x
* * * * * * *
District z | xx.x | xx.x | xx.x | xx.x | xx.x | xx.x | xx.x | xx.x | xx.x | xx.x | xx.x | xx.x
* * * * * * *
Postal Administrative Area Level n | xx.x | xx.x | xx.x | xx.x | xx.x | xx.x | xx.x | xx.x | xx.x | xx.x | xx.x | xx.x
District aa | xx.x | xx.x | xx.x | xx.x | xx.x | xx.x | xx.x | xx.x | xx.x | xx.x | xx.x | xx.x
* * * * * * *
District zz | xx.x | xx.x | xx.x | xx.x | xx.x | xx.x | xx.x | xx.x | xx.x | xx.x | xx.x | xx.x
National | xx.x | xx.x | xx.x | xx.x | xx.x | xx.x | xx.x | xx.x | xx.x | xx.x | xx.x | xx.x
Not Flat-Machinables (NFMs)/Parcels
Postal Administrative Area Level No. 1 | xx.x | xx.x | xx.x | xx.x | xx.x | xx.x | xx.x | xx.x | xx.x | xx.x | xx.x | xx.x
District a | xx.x | xx.x | xx.x | xx.x | xx.x | xx.x | xx.x | xx.x | xx.x | xx.x | xx.x | xx.x
* * * * * * *
District z | xx.x | xx.x | xx.x | xx.x | xx.x | xx.x | xx.x | xx.x | xx.x | xx.x | xx.x | xx.x
* * * * * * *
Postal Administrative Area Level n | xx.x | xx.x | xx.x | xx.x | xx.x | xx.x | xx.x | xx.x | xx.x | xx.x | xx.x | xx.x
District aa | xx.x | xx.x | xx.x | xx.x | xx.x | xx.x | xx.x | xx.x | xx.x | xx.x | xx.x | xx.x
* * * * * * *
District zz | xx.x | xx.x | xx.x | xx.x | xx.x | xx.x | xx.x | xx.x | xx.x | xx.x | xx.x | xx.x
National | xx.x | xx.x | xx.x | xx.x | xx.x | xx.x | xx.x | xx.x | xx.x | xx.x | xx.x | xx.x

C. Periodicals

1. On-Time Service Performance

Periodicals | Composite percent on-time
Within County Periodicals
Postal Administrative Area Level No. 1 | xx.x
* * * * * * *
Postal Administrative Area Level n | xx.x
National | xx.x

Periodicals | Destination entry percent on-time | End-to-end percent on-time
Outside County Periodicals
Postal Administrative Area Level No. 1 | xx.x | xx.x
* * * * * * *
Postal Administrative Area Level n | xx.x | xx.x
National | xx.x | xx.x

2. Mail Service Variance

Periodicals | Composite (%): Within +1 day | Composite (%): Within +2 days | Composite (%): Within +3 days
Within County Periodicals
Postal Administrative Area Level No. 1 | xx.x | xx.x | xx.x
* * * * * * *
Postal Administrative Area Level n | xx.x | xx.x | xx.x
National | xx.x | xx.x | xx.x

Periodicals | Destination entry (%): Within +1 day | Destination entry (%): Within +2 days | Destination entry (%): Within +3 days | End-to-end (%): Within +1 day | End-to-end (%): Within +2 days | End-to-end (%): Within +3 days
Outside County Periodicals
Postal Administrative Area Level No. 1 | xx.x | xx.x | xx.x | xx.x | xx.x | xx.x
* * * * * * *
Postal Administrative Area Level n | xx.x | xx.x | xx.x | xx.x | xx.x | xx.x
National | xx.x | xx.x | xx.x | xx.x | xx.x | xx.x

D. Package Services On-Time Service Performance

1. On-Time Service Performance

Package services | 2-day through 4-day percent on-time | 5-day through 20-day percent on-time
Single-Piece Parcel Post
Postal Administrative Area Level No. 1 | xx.x | xx.x
District a | xx.x | xx.x
* * * * * * *
District z | xx.x | xx.x
* * * * * * *
Postal Administrative Area Level n | xx.x | xx.x
District aa | xx.x | xx.x
* * * * * * *
District zz | xx.x | xx.x
National | xx.x | xx.x

Package services | Destination entry percent on-time | End-to-end percent on-time
Bound Printed Matter Flats
Postal Administrative Area Level No. 1 | xx.x | xx.x
District a | xx.x | xx.x
* * * * * * *
District z | xx.x | xx.x
* * * * * * *
Postal Administrative Area Level n | xx.x | xx.x
District aa | xx.x | xx.x
* * * * * * *
District zz | xx.x | xx.x
National | xx.x | xx.x
Bound Printed Matter Parcels
Postal Administrative Area Level No. 1 | xx.x | xx.x
District a | xx.x | xx.x
* * * * * * *
District z | xx.x | xx.x
* * * * * * *
Postal Administrative Area Level n | xx.x | xx.x
District aa | xx.x | xx.x
* * * * * * *
District zz | xx.x | xx.x
National | xx.x | xx.x
Media Mail/Library Mail
Postal Administrative Area Level No. 1 | xx.x | xx.x
District a | xx.x | xx.x
* * * * * * *
District z | xx.x | xx.x
* * * * * * *
Postal Administrative Area Level n | xx.x | xx.x
District aa | xx.x | xx.x
* * * * * * *
District zz | xx.x | xx.x
National | xx.x | xx.x

Package services | Composite percent on-time
Inbound Surface Parcel Post (at UPU rates)
Postal Administrative Area Level No. 1 | xx.x
* * * * * * *
Postal Administrative Area Level n | xx.x
National | xx.x

2. Mail Service Variance

Package services | 2-day through 4-day (%): Within +1 day | 2-day through 4-day (%): Within +2 days | 2-day through 4-day (%): Within +3 days | 5-day through 20-day (%): Within +1 day | 5-day through 20-day (%): Within +2 days | 5-day through 20-day (%): Within +3 days
Single-Piece Parcel Post
Postal Administrative Area Level No. 1 | xx.x | xx.x | xx.x | xx.x | xx.x | xx.x
District a | xx.x | xx.x | xx.x | xx.x | xx.x | xx.x
* * * * * * *
District z | xx.x | xx.x | xx.x | xx.x | xx.x | xx.x
* * * * * * *
Postal Administrative Area Level n | xx.x | xx.x | xx.x | xx.x | xx.x | xx.x
District aa | xx.x | xx.x | xx.x | xx.x | xx.x | xx.x
* * * * * * *
District zz | xx.x | xx.x | xx.x | xx.x | xx.x | xx.x
National | xx.x | xx.x | xx.x | xx.x | xx.x | xx.x

Package services | Destination entry (%): Within +1 day | Destination entry (%): Within +2 days | Destination entry (%): Within +3 days | End-to-end (%): Within +1 day | End-to-end (%): Within +2 days | End-to-end (%): Within +3 days
Bound Printed Matter Flats
Postal Administrative Area Level No. 1 | xx.x | xx.x | xx.x | xx.x | xx.x | xx.x
District a | xx.x | xx.x | xx.x | xx.x | xx.x | xx.x
* * * * * * *
District z | xx.x | xx.x | xx.x | xx.x | xx.x | xx.x
* * * * * * *
Postal Administrative Area Level n | xx.x | xx.x | xx.x | xx.x | xx.x | xx.x
District aa | xx.x | xx.x | xx.x | xx.x | xx.x | xx.x
* * * * * * *
District zz | xx.x | xx.x | xx.x | xx.x | xx.x | xx.x
National | xx.x | xx.x | xx.x | xx.x | xx.x | xx.x
Bound Printed Matter Parcels
Postal Administrative Area Level No. 1 | xx.x | xx.x | xx.x | xx.x | xx.x | xx.x
District a | xx.x | xx.x | xx.x | xx.x | xx.x | xx.x
* * * * * * *
District z | xx.x | xx.x | xx.x | xx.x | xx.x | xx.x
* * * * * * *
Postal Administrative Area Level n | xx.x | xx.x | xx.x | xx.x | xx.x | xx.x
District aa | xx.x | xx.x | xx.x | xx.x | xx.x | xx.x
* * * * * * *
District zz | xx.x | xx.x | xx.x | xx.x | xx.x | xx.x
National | xx.x | xx.x | xx.x | xx.x | xx.x | xx.x
Media Mail/Library Mail
Postal Administrative Area Level 1 | xx.x | xx.x | xx.x | xx.x | xx.x | xx.x
District a | xx.x | xx.x | xx.x | xx.x | xx.x | xx.x
* * * * * * *
District z | xx.x | xx.x | xx.x | xx.x | xx.x | xx.x
* * * * * * *
Postal Administrative Area Level n | xx.x | xx.x | xx.x | xx.x | xx.x | xx.x
District aa | xx.x | xx.x | xx.x | xx.x | xx.x | xx.x
* * * * * * *
District zz | xx.x | xx.x | xx.x | xx.x | xx.x | xx.x
National | xx.x | xx.x | xx.x | xx.x | xx.x | xx.x

2. Mail Service Variance

Package services | Composite (%): Within +1 day | Composite (%): Within +2 days | Composite (%): Within +3 days
Inbound Surface Parcel Post (at UPU rates)
Postal Administrative Area Level No. 1 | xx.x | xx.x | xx.x
* * * * * * *
Postal Administrative Area Level n | xx.x | xx.x | xx.x
National | xx.x | xx.x | xx.x

E. Special Services Performance

Special services | % Meeting target ¹
Ancillary Services | xx.x
Certified Mail | xx.x
Return Receipt (electronic) | xx.x
Return Receipt (green card) | xx.x
Number of seed mailpieces | x (number of mailpieces)
Green cards properly completed and returned | xx.x (%)
Green cards not properly completed, but returned | xx.x (%)
Mailpieces returned without green card signature | xx.x (%)
Delivery Confirmation | xx.x
Insurance | xx.x
All other Ancillary Services combined | xx.x
International Ancillary Services | xx.x
Address List Services | xx.x
Caller Services | xx.x
Change of Address Credit Card Authentication | xx.x
Confirm | xx.x
International Reply Coupon Service | xx.x
International Business Reply Mail Service | xx.x
Money Orders | xx.x
Post Office Box Service
Postal Administrative Area Level No. 1 | xx.x
District a | x.xx
* * * * * * *
District z | x.xx
* * * * * * *
Postal Administrative Area Level n | x.xx
District aa | x.xx
* * * * * * *
District z | x.xx
National | x.xx
Customized Postage | xx.x
Stamp Fulfillment Services | xx.x
¹ % Meeting Target except where noted.

Table VII-4—Illustrative Customer Satisfaction Data Reporting Charts

Post offices, stations and branches | Facilities (number): Beginning of fiscal year | Facilities (number): End of fiscal year | Facilities (number): Closed during the fiscal year | Emergency suspensions (number): In effect at beginning of fiscal year | Emergency suspensions (number): In effect at end of fiscal year | Emergency suspensions (number): Initiated during the fiscal year
Post Offices:
Postal Administrative Area Level No. 1 | x | x | x | x | x | x
* * * * * * *
Postal Administrative Area Level n | x | x | x | x | x | x
National | x | x | x | x | x | x
Classified Stations, Branches, and Carrier Annexes:
Postal Administrative Area Level No. 1 | x | x | x | x | x | x
* * * * * * *
Postal Administrative Area Level n | x | x | x | x | x | x
National | x | x | x | x | x | x
Contract Postal Units:
Postal Administrative Area Level No. 1 | x | x | x | x | x | x
* * * * * * *
Postal Administrative Area Level n | x | x | x | x | x | x
National | x | x | x | x | x | x
Community Post Offices:
Postal Administrative Area Level No. 1 | x | x | x | x | x | x
* * * * * * *
Postal Administrative Area Level n | x | x | x | x | x | x
National | x | x | x | x | x | x

Residential delivery points | Beginning of fiscal year (number) | End of fiscal year (number)
City Delivery:
Postal Administrative Area Level No. 1 | x | x
* * * * * * *
Postal Administrative Area Level n | x | x
National | x | x
Rural:
Postal Administrative Area Level No. 1 | x | x
* * * * * * *
Postal Administrative Area Level n | x | x
National | x | x
P.O. Box:
Postal Administrative Area Level No. 1 | x | x
* * * * * * *
Postal Administrative Area Level n | x | x
National | x | x
Highway Contract:
Postal Administrative Area Level No. 1 | x | x
* * * * * * *
Postal Administrative Area Level n | x | x
National | x | x

Business delivery points | Beginning of fiscal year (number) | End of fiscal year (number)
City Delivery:
Postal Administrative Area Level No. 1 | x | x
* * * * * * *
Postal Administrative Area Level n | x | x
National | x | x
Rural:
Postal Administrative Area Level No. 1 | x | x
* * * * * * *
Postal Administrative Area Level n | x | x
National | x | x
P.O. Box:
Postal Administrative Area Level No. 1 | x | x
* * * * * * *
Postal Administrative Area Level n | x | x
National | x | x
Highway Contract:
Postal Administrative Area Level No. 1 | x | x
* * * * * * *
Postal Administrative Area Level n | x | x
National | x | x

Collection boxes | Beginning of fiscal year (number) | End of fiscal year (number) | Removed during fiscal year (number) | Added during fiscal year (number)
Postal Administrative Area Level No. 1 | x | x | x | x
* * * * * * *
Postal Administrative Area Level n | x | x | x | x
National | x | x | x | x

Wait time in line | Beginning of fiscal year (minutes) | End of first quarter (minutes) | End of second quarter (minutes) | End of third quarter (minutes) | End of fiscal year (minutes)
Postal Administrative Area Level No. 1 | x | x | x | x | x
* * * * * * *
Postal Administrative Area Level n | x | x | x | x | x
National | x | x | x | x | x

VIII. Designation of Public Representatives

Pursuant to 39 U.S.C. 505, Emmett Rand Costich and James Callow are designated as the Public Representatives in this proceeding to represent the interests of the general public.

IX. Solicitation of Comments

Interested persons are invited to comment on the rules proposed in this rulemaking. Comments are due no later than 30 days after publication of this Order in the Federal Register. Reply comments are due no later than 60 days after publication of this Order in the Federal Register.

X. Ordering Paragraphs

It is ordered:

1. The Commission proposes to amend its rules of practice and procedure by adding new part 3055—Service Performance and Customer Satisfaction Reporting. This part is subdivided into Subpart A—Annual Reporting of Service Performance Achievements, Subpart B—Periodic Reporting of Service Performance Achievements, and Subpart C—Annual Reporting of Customer Satisfaction.

2. Docket No. RM2009-11 is established to consider the above changes to the Commission's rules of practice and procedure.

3. Interested persons may file initial comments no later than 30 days after publication of this order in the Federal Register.

4. Interested persons may file reply comments no later than 60 days after publication of this order in the Federal Register.

5. Pursuant to 39 U.S.C. 505, Emmett Rand Costich and James Callow are designated as the Public Representatives in this proceeding to represent the interests of the general public.

6. The Secretary shall arrange for publication of this order in the Federal Register.

List of Subjects in 39 CFR Part 3055

Administrative practice and procedure, Postal Service, Reporting and recordkeeping requirements.

By the Commission.
Shoshana M. Grove,
Secretary.

For the reasons stated in the preamble, under the authority at 39 U.S.C. 503, the Postal Regulatory Commission proposes to amend 39 CFR chapter III by adding part 3055 to read as follows:

PART 3055—SERVICE PERFORMANCE AND CUSTOMER SATISFACTION REPORTING

Sec.
3055.1 Annual reporting of service performance achievements.
3055.2 Contents of the annual report of service performance achievements.
3055.3 Reporting exceptions.
3055.4 Internal measurement systems.
3055.5 Changes to measurement systems, service standards, service goals or reporting methodologies.
3055.6 Addition of new market dominant products or changes to existing market dominant products.
3055.7 Special study.
3055.8 [Reserved]
3055.9 [Reserved]
3055.10 [Reserved]
3055.11 [Reserved]
3055.12 [Reserved]
3055.13 [Reserved]
3055.14 [Reserved]
3055.15 [Reserved]
3055.16 [Reserved]
3055.17 [Reserved]
3055.18 [Reserved]
3055.19 [Reserved]
3055.20 First-Class Mail.
3055.21 Standard Mail.
3055.22 Periodicals.
3055.23 Package Services.
3055.24 Special Services.
3055.25 Nonpostal products [Reserved]
3055.26 [Reserved]
3055.27 [Reserved]
3055.28 [Reserved]
3055.29 [Reserved]
3055.30 Periodic reporting of service performance achievements.
3055.31 Contents of the Quarterly Report of service performance achievements.
3055.32 Measurement systems using a delivery factor.
3055.33 [Reserved]
3055.34 [Reserved]
3055.35 [Reserved]
3055.36 [Reserved]
3055.37 [Reserved]
3055.38 [Reserved]
3055.39 [Reserved]
3055.40 [Reserved]
3055.41 [Reserved]
3055.42 [Reserved]
3055.43 [Reserved]
3055.44 [Reserved]
3055.45 First-Class Mail.
3055.46 [Reserved]
3055.47 [Reserved]
3055.48 [Reserved]
3055.49 [Reserved]
3055.50 Standard Mail.
3055.51 [Reserved]
3055.52 [Reserved]
3055.53 [Reserved]
3055.54 [Reserved]
3055.55 Periodicals.
3055.56 [Reserved]
3055.57 [Reserved]
3055.58 [Reserved]
3055.59 [Reserved]
3055.60 Package Services.
3055.61 [Reserved]
3055.62 [Reserved]
3055.63 [Reserved]
3055.64 [Reserved]
3055.65 Special Services.
3055.66 [Reserved]
3055.67 [Reserved]
3055.68 [Reserved]
3055.69 [Reserved]
3055.70 Nonpostal products [Reserved]
3055.71 [Reserved]
3055.72 [Reserved]
3055.73 [Reserved]
3055.74 [Reserved]
3055.75 [Reserved]
3055.76 [Reserved]
3055.77 [Reserved]
3055.78 [Reserved]
3055.79 [Reserved]
3055.80 [Reserved]
3055.81 [Reserved]
3055.82 [Reserved]
3055.83 [Reserved]
3055.84 [Reserved]
3055.85 [Reserved]
3055.86 [Reserved]
3055.87 [Reserved]
3055.88 [Reserved]
3055.89 [Reserved]
3055.90 Reporting of customer satisfaction.
3055.91 Consumer access to postal services.
3055.92 Customer Satisfaction Surveys.
3055.93 Mystery Shopper Program.

Authority: 39 U.S.C. 503; 3651, 3652.

PART 3055—SERVICE PERFORMANCE AND CUSTOMER SATISFACTION REPORTING

Subpart A—Annual Reporting of Service Performance Achievements

§ 3055.1 Annual reporting of service performance achievements.

For each market dominant product specified in the Mail Classification Schedule in part 3020, appendix A to subpart A of part 3020 of this chapter, the Postal Service shall file a report as part of the section 3652 report addressing service performance achievements for the preceding fiscal year.

§ 3055.2 Contents of the annual report of service performance achievements.

(a) The items in paragraphs (b) through (j) of this section shall be included in the annual report of service performance achievements.

(b) The class or group-specific reporting requirements specified in §§ 3055.20 through 3055.25.

(c) The applicable service standard(s) for each product.

(d) The applicable service goal(s) for each product.

(e) A description of the measurement system for each product, including:

(1) A description of what is being measured;

(2) A description of the system used to obtain each measurement;

(3) A description of the methodology used to develop reported data from measured data;

(4) A description of any changes to the measurement system or data reporting methodology implemented within the reported fiscal year; and

(5) Where proxies are used, a description of and justification for the use of each proxy.

(f) A description of the statistical validity and reliability of the results for each measured product.

(g) A description of how the sampled data represents the national geographic mail characteristics or behavior of the product.

(h) The identification of each product, or component of a product, granted an exception from reporting pursuant to § 3055.3, and a certification that the rationale for originally granting the exception remains valid.

(i) Documentation showing how data reported at a given level of aggregation were derived from data reported at the next level of aggregation. Such documentation shall be in electronic format with all data links preserved. It shall show all formulas used, including volumes and other weighting factors.

(j) For each product, documentation showing how the reports required by subpart A of this part were derived from the reports required by subpart B of this part. Such documentation shall be in electronic format with all data links preserved. It shall show all formulas used, including volumes and other weighting factors.

§ 3055.3 Reporting exceptions.

(a) The Postal Service may petition the Commission to request that a product, or component of a product, be excluded from reporting, provided the Postal Service demonstrates that:

(1) The cost of implementing a measurement system would be prohibitive in relation to the revenue generated by the product, or component of a product;

(2) The product, or component of a product, defies meaningful measurement; or

(3) The product, or component of a product, is in the form of a negotiated service agreement with substantially all components of the agreement included in the measurement of other products.

(b) The Postal Service shall identify each product or component of a product granted an exception in each report required under subparts A or B of this part, and certify that the rationale for originally granting the exception remains valid.

§ 3055.4 Internal measurement systems.

Service performance measurements obtained from internal measurement systems or hybrid measurement systems (which are defined as systems that rely on both an internal and an external measurement component) shall not be used to comply with any reporting requirement under subparts A or B of this part without prior Commission approval.

§ 3055.5 Changes to measurement systems, service standards, service goals or reporting methodologies.

The Postal Service shall file notice with the Commission describing all changes to measurement systems, service standards, service goals or reporting methodologies, including the use of proxies for reporting service performance, 30 days prior to planned implementation. The Commission may initiate a proceeding to consider such changes if it appears that the changes might have a material impact on the accuracy, reliability, or utility of the reported measurement, or if the changes might have a material impact on the characteristics of the underlying product.

§ 3055.6 Addition of new market dominant products or changes to existing market dominant products.

Whenever the Postal Service proposes the addition of a new market dominant product or a change to an existing market dominant product, it also shall propose new or revised (as necessary) service performance measurement systems, service standards, service goals, data reporting elements, and data reporting methodologies.

§ 3055.7 Special study.

Included in the second section 3652 report due after this rule becomes final, and every 2 years thereafter, the Postal Service shall provide a report, by class of mail, on delivery performance to remote areas of the Alaska, Caribbean, and Honolulu districts.

§ 3055.8 [Reserved]

§ 3055.9 [Reserved]

§ 3055.10 [Reserved]

§ 3055.11 [Reserved]

§ 3055.12 [Reserved]

§ 3055.13 [Reserved]

§ 3055.14 [Reserved]

§ 3055.15 [Reserved]

§ 3055.16 [Reserved]

§ 3055.17 [Reserved]

§ 3055.18 [Reserved]

§ 3055.19 [Reserved]

§ 3055.20 First-Class Mail.

(a) Single-Piece Letters/Postcards, Bulk Letters/Postcards, Flats, and Parcels. For each of the Single-Piece Letters/Postcards, Bulk Letters/Postcards, Flats, and Parcels products within the First-Class Mail class, report the on-time service performance (as a percentage rounded to one decimal place), disaggregated by mail subject to the overnight, 2-day, and 3/4/5-day service standards.

(b) Outbound Single-Piece First-Class Mail International and Inbound Single-Piece First-Class Mail International. For each of the Outbound Single-Piece First-Class Mail International and Inbound Single-Piece First-Class Mail International products within the First-Class Mail class, report the on-time service performance (as a percentage rounded to one decimal place).

§ 3055.21 Standard Mail.

For each product within the Standard Mail class, report the on-time service performance (as a percentage rounded to one decimal place).

§ 3055.22 Periodicals.

For each product within the Periodicals class, report the on-time service performance (as a percentage rounded to one decimal place).

§ 3055.23 Package Services.

For each product within the Package Services class, report the on-time service performance (as a percentage rounded to one decimal place).

§ 3055.24 Special Services.

For each product within the Special Services group, report the percentage of time (rounded to one decimal place) that each product meets or exceeds its service standard.

§ 3055.25 Nonpostal products [Reserved]

§ 3055.26 [Reserved]

§ 3055.27 [Reserved]

§ 3055.28 [Reserved]

§ 3055.29 [Reserved]

Subpart B—Periodic Reporting of Service Performance Achievements

§ 3055.30 Periodic reporting of service performance achievements.

For each market dominant product specified in the Mail Classification Schedule in part 3020, appendix A to subpart A of part 3020 of this chapter, the Postal Service shall file a Quarterly Report with the Commission addressing service performance achievements for the preceding fiscal quarter (within 40 days of the close of each fiscal quarter).

§ 3055.31 Contents of the Quarterly Report of service performance achievements.

(a) The items in paragraphs (b) through (e) of this section shall be included in the quarterly report of service performance achievements.

(b) The class or group-specific reporting items specified in §§ 3055.45 through 3055.70.

(c) The identification of each product, or component of a product, granted an exception from reporting pursuant to § 3055.3, and a certification that the rationale for originally granting the exception remains valid.

(d) Documentation showing how data reported at a given level of aggregation were derived from data reported at the next level of aggregation. Such documentation shall be in electronic format with all data links preserved. It shall show all formulas used, including volumes and other weighting factors.

(e) A year-to-date aggregation of each data item provided in each Quarterly Report due for the reported fiscal year, where applicable, including volumes and other weighting factors provided in electronic format, with formulas shown and data links preserved to allow traceability to individual Quarterly Reports.

§ 3055.32 Measurement systems using a delivery factor.

For measurements that include a delivery factor, the duration of the delivery factor also shall be presented independent of the total measurement.

§ 3055.33 [Reserved]

§ 3055.34 [Reserved]

§ 3055.35 [Reserved]

§ 3055.36 [Reserved]

§ 3055.37 [Reserved]

§ 3055.38 [Reserved]

§ 3055.39 [Reserved]

§ 3055.40 [Reserved]

§ 3055.41 [Reserved]

§ 3055.42 [Reserved]

§ 3055.43 [Reserved]

§ 3055.44 [Reserved]

§ 3055.45 First-Class Mail.

(a) Single-Piece Letters/Postcards, Bulk Letters/Postcards, Flats, and Parcels. For each of the Single-Piece Letters/Postcards, Bulk Letters/Postcards, Flats, and Parcels products within the First-Class Mail class, report the:

(1) On-time service performance (as a percentage rounded to one decimal place), disaggregated by mail subject to the overnight, 2-day, and 3/4/5-day service standards, provided at the District, Postal Administrative Area, and National levels; and

(2) Service variance (as a percentage rounded to one decimal place) for mail delivered within +1 day, +2 days, and +3 days of its applicable service standard, disaggregated by mail subject to the overnight, 2-day, and 3/4/5-day service standards, provided at the District, Postal Administrative Area, and National levels.

(b) Outbound Single-Piece First-Class Mail International and Inbound Single-Piece First-Class Mail International. For each of the Outbound Single-Piece First-Class Mail International and Inbound Single-Piece First-Class Mail International products within the First-Class Mail class, report the:

(1) On-time service performance (as a percentage rounded to one decimal place), provided at the Postal Administrative Area and National levels; and

(2) Service variance (as a percentage rounded to one decimal place) for mail delivered within +1 day, +2 days, and +3 days of its applicable service standard, provided at the Postal Administrative Area and National levels.

§ 3055.46 [Reserved]

§ 3055.47 [Reserved]

§ 3055.48 [Reserved]

§ 3055.49 [Reserved]

§ 3055.50 Standard Mail.

(a) For each product within the Standard Mail class, report the on-time service performance (as a percentage rounded to one decimal place), disaggregated by the Destination Entry (2-day through 4-day), Destination Entry (5-day through 10-day), End-to-End (3-day through 5-day), and End-to-End (6-day through 22-day) entry mail/service standards, provided at the District, Postal Administrative Area, and National levels.

(b) For each product within the Standard Mail class, report the service variance (as a percentage rounded to one decimal place) for mail delivered within +1 day, +2 days, and +3 days of its applicable service standard, disaggregated by the Destination Entry (2-day through 4-day), Destination Entry (5-day through 10-day), End-to-End (3-day through 5-day), and End-to-End (6-day through 22-day) entry mail/service standards, provided at the District, Postal Administrative Area, and National levels.

§ 3055.51 [Reserved]

§ 3055.52 [Reserved]

§ 3055.53 [Reserved]

§ 3055.54 [Reserved]

§ 3055.55 Periodicals.

(a) Within County Periodicals. For the Within County Periodicals product within the Periodicals class, report the:

(1) On-time service performance (as a percentage rounded to one decimal place), provided at the Postal Administrative Area and National levels; and

(2) Service variance (as a percentage rounded to one decimal place) for mail delivered within +1 day, +2 days, and +3 days of its applicable service standard, provided at the Postal Administrative Area and National levels.

(b) Outside County Periodicals. For the Outside County Periodicals product within the Periodicals class, report the:

(1) On-time service performance (as a percentage rounded to one decimal place), disaggregated by the Destination Entry and End-to-End entry mail, provided at the Postal Administrative Area and National levels; and

(2) Service variance (as a percentage rounded to one decimal place) for mail delivered within +1 day, +2 days, and +3 days of its applicable service standard, disaggregated by the Destination Entry and End-to-End entry mail, provided at the Postal Administrative Area and National levels.

§ 3055.56 [Reserved]

§ 3055.57 [Reserved]

§ 3055.58 [Reserved]

§ 3055.59 [Reserved]

§ 3055.60 Package Services.

(a) Single-Piece Parcel Post. For the Single-Piece Parcel Post product within the Package Services class, report the:

(1) On-time service performance (as a percentage rounded to one decimal place), disaggregated by mail subject to the 2-day through 4-day and 5-day through 20-day service standards, provided at the District, Postal Administrative Area, and National levels; and

(2) Service variance (as a percentage rounded to one decimal place) for mail delivered within +1 day, +2 days, and +3 days of its applicable service standard, disaggregated by mail subject to the 2-day through 4-day and 5-day through 20-day service standards, provided at the District, Postal Administrative Area, and National levels.

(b) Bound Printed Matter Flats, Bound Printed Matter Parcels, and Media Mail/Library Mail. For each of the Bound Printed Matter Flats, Bound Printed Matter Parcels, and Media Mail/Library Mail products within the Package Services class, report the:

(1) On-time service performance (as a percentage rounded to one decimal place), disaggregated by the Destination Entry and End-to-End entry mail, provided at the District, Postal Administrative Area, and National levels; and

(2) Service variance (as a percentage rounded to one decimal place) for mail delivered within +1 day, +2 days, and +3 days of its applicable service standard, disaggregated by the Destination Entry and End-to-End entry mail, provided at the District, Postal Administrative Area, and National levels.

(c) Inbound Surface Parcel Post (at UPU rates). For the Inbound Surface Parcel Post (at UPU rates) product within the Package Services class, report the:

(1) On-time service performance (as a percentage rounded to one decimal place), provided at the Postal Administrative Area and National levels; and

(2) Service variance (as a percentage rounded to one decimal place) for mail delivered within +1 day, +2 days, and +3 days of its applicable service standard, provided at the Postal Administrative Area and National levels.

§ 3055.61 [Reserved]

§ 3055.62 [Reserved]

§ 3055.63 [Reserved]

§ 3055.64 [Reserved]

§ 3055.65 Special Services.

(a) For each product within the Special Services group, report the percentage of time (rounded to one decimal place) that each product meets or exceeds its service standard, provided at the National level.

(b) Additional reporting for Ancillary Services. For the Certified Mail, electronic Return Receipt, Delivery Confirmation, Insurance, and an aggregation of all other services within the Ancillary Services product, individually report the percentage of time (rounded to one decimal place) that each service meets or exceeds its service standard. For green card Return Receipt report:

(1) The number of EXFC seed mailpieces sent;

(2) The percentage of green cards properly completed and returned;

(3) The percentage of green cards not properly completed, but returned;

(4) The percentage of mailpieces returned without a green card signature; and

(5) The percentage of the time the service meets or exceeds its overall service standard.

(c) Additional reporting for Post Office Box Service. For Post Office Box Service, report the percentage of time (rounded to one decimal place) that the product meets or exceeds its service standard, provided at the District and Postal Administrative Area levels.

§ 3055.66 [Reserved]

§ 3055.67 [Reserved]

§ 3055.68 [Reserved]

§ 3055.69 [Reserved]

§ 3055.70 Nonpostal products [Reserved]

§ 3055.71 [Reserved]

§ 3055.72 [Reserved]

§ 3055.73 [Reserved]

§ 3055.74 [Reserved]

§ 3055.75 [Reserved]

§ 3055.76 [Reserved]

§ 3055.77 [Reserved]

§ 3055.78 [Reserved]

§ 3055.79 [Reserved]

§ 3055.80 [Reserved]

§ 3055.81 [Reserved]

§ 3055.82 [Reserved]

§ 3055.83 [Reserved]

§ 3055.84 [Reserved]

§ 3055.85 [Reserved]

§ 3055.86 [Reserved]

§ 3055.87 [Reserved]

§ 3055.88 [Reserved]

§ 3055.89 [Reserved]

Subpart C—Reporting of Customer Satisfaction

§ 3055.90 Reporting of customer satisfaction.

For each market dominant product specified in the Mail Classification Schedule in part 3020, appendix A to subpart A of part 3020 of this chapter, the Postal Service shall file a report as part of the section 3652 report, unless a more frequent filing is specifically indicated, addressing customer satisfaction achievements for the preceding fiscal year. The report shall include, at a minimum, the specific reporting requirements presented in §§ 3055.91 through 3055.93.

§ 3055.91 Consumer access to postal services.

(a) The following information pertaining to post offices shall be reported, disaggregated by type of post office facility, and provided at the Postal Administrative Area and National levels:

(1) The number of post offices at the beginning of the reported fiscal year;

(2) The number of post offices at the end of the reported fiscal year;

(3) The number of post office closings in the reported fiscal year;

(4) The number of post office emergency suspensions in effect at the beginning of the reported fiscal year;

(5) The number of post office emergency suspensions in the reported fiscal year; and

(6) The number of post office emergency suspensions in effect at the end of the reported fiscal year.

(b) The following information pertaining to delivery points shall be reported, disaggregated by delivery point type, provided at the Postal Administrative Area and National levels:

(1) The number of residential delivery points at the beginning of the reported fiscal year;

(2) The number of residential delivery points at the end of the reported fiscal year;

(3) The number of business delivery points at the beginning of the reported fiscal year; and

(4) The number of business delivery points at the end of the reported fiscal year.

(c) The following information pertaining to collection boxes shall be reported, provided at the Postal Administrative Area and National levels:

(1) The number of collection boxes at the beginning of the reported fiscal year;

(2) The number of collection boxes at the end of the reported fiscal year;

(3) The number of collection boxes removed during the reported fiscal year; and

(4) The number of collection boxes added to new locations during the reported fiscal year.

(d) The average customer wait time in line for retail service shall be reported. Data shall be provided for the beginning of the reported fiscal year and for the close of each successive fiscal quarter at the Postal Administrative Area and National levels.

§ 3055.92 Customer Satisfaction Surveys.

(a) The report shall include a copy of each type of Customer Satisfaction Survey instrument used in the preceding fiscal year.

(b) The report shall include information obtained from each type of Customer Satisfaction Survey instrument, including:

(1) A description of the customer type targeted by the survey;

(2) The number of surveys initiated and the number of surveys received; and

(3) Where the question asked is subject to a multiple choice response, the number of responses received for each question, disaggregated by each of the possible responses.

§ 3055.93 Mystery Shopper Program.

(a) A copy of the National Executive Summary Report that summarizes the information obtained from the Mystery Shopper Program, or any similar report that may supersede the National Executive Summary Report, shall be filed with the Commission on a quarterly basis (within 30 days of the close of each fiscal quarter).

(b) A copy of each type of Mystery Shopper Program survey instrument used in preparing the report cited in paragraph (a) of this section shall be filed with each report.

[FR Doc. E9-22680 Filed 9-24-09; 8:45 am]

BILLING CODE 7710-FW-P